DEPARTMENT OF HEALTH AND HUMAN SERVICES

Centers for Medicare & Medicaid Services

[CMS-9032-N]

Medicare and Medicaid Programs; Quarterly Listing of Program Issuances—April Through June 2005

AGENCY: Centers for Medicare & Medicaid Services (CMS), HHS.

ACTION: Notice.

SUMMARY: This notice lists CMS manual instructions, substantive and interpretive regulations, and other Federal Register notices that were published from April 2005 through June 2005, relating to the Medicare and Medicaid programs. This notice provides information on national coverage determinations (NCDs) affecting specific medical and health care services under Medicare. Additionally, this notice identifies certain devices with investigational device exemption (IDE) numbers approved by the Food and Drug Administration (FDA) that potentially may be covered under Medicare. This notice also includes listings of all approval numbers from the Office of Management and Budget for collections of information in CMS regulations. Finally, this notice includes a list of Medicare-approved carotid stent facilities.

Section 1871(c) of the Social Security Act requires that we publish a list of Medicare issuances in the Federal Register at least every 3 months. Although we are not mandated to do so by statute, for the sake of completeness of the listing, and to foster more open and transparent collaboration efforts, we are also including all Medicaid issuances and Medicare and Medicaid substantive and interpretive regulations (proposed and final) published during this 3-month time frame.

FOR FURTHER INFORMATION CONTACT: It is possible that an interested party may have a specific information need and not be able to determine from the listed information whether the issuance or regulation would fulfill that need. Consequently, we are providing information contact persons to answer general questions concerning these items. Copies are not available through the contact persons. (See Section III of this notice for how to obtain listed material.)

Questions concerning items in Addendum III may be addressed to Timothy Jennings, Office of Strategic Operations and Regulatory Affairs, Centers for Medicare & Medicaid Services, C4-26-05, 7500 Security Boulevard, Baltimore, MD 21244-1850, or you can call (410) 786-2134.

Questions concerning Medicare NCDs in Addendum V may be addressed to Patricia Brocato-Simons, Office of Clinical Standards and Quality, Centers for Medicare & Medicaid Services, C1-09-06, 7500 Security Boulevard, Baltimore, MD 21244-1850, or you can call (410) 786-0261.

Questions concerning FDA-approved Category B IDE numbers listed in Addendum VI may be addressed to John Manlove, Office of Clinical Standards and Quality, Centers for Medicare & Medicaid Services, S3-26-10, 7500 Security Boulevard, Baltimore, MD 21244-1850, or you can call (410) 786-6877.

Questions concerning approval numbers for collections of information in Addendum VII may be addressed to Jim Wickliffe, Office of Strategic Operations and Regulatory Affairs, Regulations Development and Issuances Group, Centers for Medicare & Medicaid Services, C5-14-03, 7500 Security Boulevard, Baltimore, MD 21244-1850, or you can call (410) 786-4596.

Questions concerning Medicare-approved carotid stent facilities may be addressed to Sarah J. McClain, Office of Clinical Standards and Quality, Centers for Medicare & Medicaid Services, C1-09-06, 7500 Security Boulevard, Baltimore, MD 21244-1850, or you can call (410) 786-2994.

Questions concerning all other information may be addressed to Gwendolyn Johnson, Office of Strategic Operations and Regulatory Affairs, Regulations Development Group, Centers for Medicare & Medicaid Services, C5-14-03, 7500 Security Boulevard, Baltimore, MD 21244-1850, or you can call (410) 786-6954.

SUPPLEMENTARY INFORMATION:

I. Program Issuances

The Centers for Medicare & Medicaid Services (CMS) is responsible for administering the Medicare and Medicaid programs. These programs pay for health care and related services for 39 million Medicare beneficiaries and 35 million Medicaid recipients. Administration of the two programs involves (1) furnishing information to Medicare beneficiaries and Medicaid recipients, health care providers, and the public and (2) maintaining effective communications with regional offices, State governments, State Medicaid agencies, State survey agencies, various providers of health care, all Medicare contractors that process claims and pay bills, and others. To implement the various statutes on which the programs are based, we issue regulations under the authority granted to the Secretary of the Department of Health and Human Services under sections 1102, 1871, 1902, and related provisions of the Social Security Act (the Act). We also issue various manuals, memoranda, and statements necessary to administer the programs efficiently.

Section 1871(c)(1) of the Act requires that we publish a list of all Medicare manual instructions, interpretive rules, statements of policy, and guidelines of general applicability not issued as regulations at least every 3 months in the Federal Register. We published our first notice June 9, 1988 (53 FR 21730). Although we are not mandated to do so by statute, for the sake of completeness of the listing of operational and policy statements, and to foster more open and transparent collaboration, we are continuing our practice of including Medicare substantive and interpretive regulations (proposed and final) published during the respective 3-month time frame.

II. How To Use the Addenda

This notice is organized so that a reader may review the subjects of manual issuances, memoranda, substantive and interpretive regulations, NCDs, and FDA-approved IDEs published during the subject quarter to determine whether any are of particular interest. We expect this notice to be used in concert with previously published notices. Those unfamiliar with a description of our Medicare manuals may wish to review Table I of our first three notices (53 FR 21730, 53 FR 36891, and 53 FR 50577) published in 1988, and the notice published March 31, 1993 (58 FR 16837). Those desiring information on the Medicare NCD Manual (NCDM, formerly the Medicare Coverage Issues Manual (CIM)) may wish to review the August 21, 1989, publication (54 FR 34555). Those interested in the revised process used in making NCDs under the Medicare program may review the September 26, 2003, publication (68 FR 55634).

To aid the reader, we have organized and divided this current listing into eight addenda:

• Addendum I lists the publication dates of the most recent quarterly listings of program issuances.

• Addendum II identifies previous Federal Register documents that contain a description of all previously published CMS Medicare and Medicaid manuals and memoranda.

• Addendum III lists a unique CMS transmittal number for each instruction in our manuals or Program Memoranda and its subject matter. A transmittal may consist of a single or multiple instruction(s). Often, it is necessary to use information in a transmittal in conjunction with information currently in the manuals.

• Addendum IV lists all substantive and interpretive Medicare and Medicaid regulations and general notices published in the Federal Register during the quarter covered by this notice. For each item, we list the—

○ Date published;

○ Federal Register citation;

○ Parts of the Code of Federal Regulations (CFR) that have changed (if applicable);

○ Agency file code number; and

○ Title of the regulation.

• Addendum V includes completed NCDs, or reconsiderations of completed NCDs, from the quarter covered by this notice. Completed decisions are identified by the section of the NCDM in which the decision appears, the title, the date the publication was issued, and the effective date of the decision.

• Addendum VI includes listings of the FDA-approved IDE categorizations, using the IDE numbers the FDA assigns. The listings are organized according to the categories to which the device numbers are assigned (that is, Category A or Category B), and identified by the IDE number.

• Addendum VII includes listings of all approval numbers from the Office of Management and Budget (OMB) for collections of information in CMS regulations in title 42; title 45, subchapter C; and title 20 of the CFR.

• Addendum VIII includes listings of Medicare-approved carotid stent facilities. All facilities listed meet CMS's standards for performing carotid artery stenting for high risk patients.

III. How To Obtain Listed Material

A. Manuals

Those wishing to subscribe to program manuals should contact either the Government Printing Office (GPO) or the National Technical Information Service (NTIS) at the following addresses: Superintendent of Documents, Government Printing Office, ATTN: New Orders, P.O. Box 371954, Pittsburgh, PA 15250-7954, Telephone (202) 512-1800, Fax number (202) 512-2250 (for credit card orders); or National Technical Information Service, Department of Commerce, 5825 Port Royal Road, Springfield, VA 22161, Telephone (703) 487-4630.

In addition, individual manual transmittals and Program Memoranda listed in this notice can be purchased from NTIS. Interested parties should identify the transmittal(s) they want. GPO or NTIS can give complete details on how to obtain the publications they sell. Additionally, most manuals are available at the following Internet address: http://cms.hhs.gov/manuals/default.asp.

B. Regulations and Notices

Regulations and notices are published in the daily Federal Register. Interested individuals may purchase individual copies or subscribe to the Federal Register by contacting the GPO at the address given above. When ordering individual copies, it is necessary to cite either the date of publication or the volume number and page number.

The Federal Register is also available on 24x microfiche and as an online database through GPO Access. The online database is updated by 6 a.m. each day the Federal Register is published. The database includes both text and graphics from Volume 59, Number 1 (January 2, 1994) forward. Free public access is available on a Wide Area Information Server (WAIS) through the Internet and via asynchronous dial-in. Internet users can access the database by using the World Wide Web; the Superintendent of Documents home page address is http://www.gpoaccess.gov/fr/index.html, by using local WAIS client software, or by telnet to swais.gpoaccess.gov, then log in as guest (no password required). Dial-in users should use communications software and modem to call (202) 512-1661; type swais, then log in as guest (no password required).

C. Rulings

We publish rulings on an infrequent basis. Interested individuals can obtain copies from the nearest CMS Regional Office or review them at the nearest regional depository library. We have, on occasion, published rulings in the Federal Register. Rulings, beginning with those released in 1995, are available online, through the CMS Home Page. The Internet address is http://cms.hhs.gov/rulings.

D. CMS' Compact Disk-Read Only Memory (CD-ROM)

Our laws, regulations, and manuals are also available on CD-ROM and may be purchased from GPO or NTIS on a subscription or single copy basis. The Superintendent of Documents list ID is HCLRM, and the stock number is 717-139-00000-3. The following material is on the CD-ROM disk:

• Titles XI, XVIII, and XIX of the Act.

• CMS-related regulations.

• CMS manuals and monthly revisions.

• CMS program memoranda.

The titles of the Compilation of the Social Security Laws are current as of January 1, 1999. (Updated titles of the Social Security Laws are available on the Internet at http://www.ssa.gov/OP_Home/ssact/comp-toc.htm.) The remaining portions of CD-ROM are updated on a monthly basis.

Because of complaints about the unreadability of the Appendices (Interpretive Guidelines) in the State Operations Manual (SOM), as of March 1995, we deleted these appendices from CD-ROM. We intend to re-visit this issue in the near future and, with the aid of newer technology, we may again be able to include the appendices on CD-ROM.

Any cost report forms incorporated in the manuals are included on the CD-ROM disk as LOTUS files. LOTUS software is needed to view the reports once the files have been copied to a personal computer disk.

IV. How To Review Listed Material

Transmittals or Program Memoranda can be reviewed at a local Federal Depository Library (FDL). Under the FDL program, government publications are sent to approximately 1,400 designated libraries throughout the United States. Some FDLs may have arrangements to transfer material to a local library not designated as an FDL. Contact any library to locate the nearest FDL.

In addition, individuals may contact regional depository libraries that receive and retain at least one copy of most Federal Government publications, either in printed or microfilm form, for use by the general public. These libraries provide reference services and interlibrary loans; however, they are not sales outlets. Individuals may obtain information about the location of the nearest regional depository library from any library. For each CMS publication listed in Addendum III, CMS publication and transmittal numbers are shown. To help FDLs locate the materials, use the CMS publication and transmittal numbers. For example, to find the Medicare NCD publication titled “Percutaneous Transluminal Angioplasty,” use CMS-Pub. 100-03, Transmittal No. 33.

(Catalog of Federal Domestic Assistance Program No. 93.773, Medicare—Hospital Insurance, Program No. 93.774, Medicare—Supplementary Medical Insurance Program, and Program No. 93.714, Medical Assistance Program)
Dated: September 6, 2005.
Jacquelyn Y. White,
Director, Office of Strategic Operations and Regulatory Affairs.

Addendum I

This addendum lists the publication dates of the most recent quarterly listings of program issuances.

March 28, 2003 (68 FR 15196)

June 27, 2003 (68 FR 38359)

September 26, 2003 (68 FR 55618)

December 24, 2003 (68 FR 74590)

March 26, 2004 (69 FR 15837)

June 25, 2004 (69 FR 35634)

September 24, 2004 (69 FR 57312)

December 30, 2004 (69 FR 78428)

February 25, 2005 (70 FR 9338)

June 24, 2005 (70 FR 36620)

Addendum II—Description of Manuals, Memoranda, and CMS Rulings

An extensive descriptive listing of Medicare manuals and memoranda was published on June 9, 1988, at 53 FR 21730 and supplemented on September 22, 1988, at 53 FR 36891 and December 16, 1988, at 53 FR 50577. Also, a complete description of the former CIM (now the NCDM) was published on August 21, 1989, at 54 FR 34555. A brief description of the various Medicaid manuals and memoranda that we maintain was published on October 16, 1992, at 57 FR 47468.

Addendum III.—Medicare and Medicaid Manual Instructions
[April Through June 2005]
Transmittal No. | Manual/Subject/Publication No.
Medicare General Information
(CMS—Pub. 100-01)
20 | Medicare Authorization to Disclose Personal Health Information Form and Information to Help You Fill Out the Medicare Authorization to Disclose Personal Health Information Form.
21 | Removal of Medicare Number from Reimbursement Checks.
22 | Provider Extract File.
23 | Procedures for Modifying Shared Systems Edits and Capturing Audit Trail Data.
24 | 2005 Scheduled Release for July Updates to Software Programs and Pricing/Coding Files.
Medicare Benefit Policy
(CMS—Pub. 100-02)
31 | List of Medicare Telehealth Services Telehealth Services. Payment for End-Stage Renal Disease-Related Services as a Telehealth Service Originating Site Facility Fee Payment (End-Stage Renal Disease-Related Services).
32 | This Transmittal is rescinded and replaced by Transmittal 33.
33 | Issued to a specific audience, not posted to the Internet/Intranet due to the Confidentiality of Instruction.
34 | This Transmittal is rescinded and replaced by Transmittal 36.
35 | Automated Multi-Channel Chemistry for Continuous Ambulatory Peritoneal Dialysis and Non-Continuous Ambulatory Peritoneal Dialysis Patients.
36 | Pub. 100-02, Chapter 15, Section 220 and 230 Therapy Services. Coverage of Outpatient Rehabilitation Therapy Services (Physical Therapy, and Speech-Language Pathology Services) Under Medical Insurance. Conditions of Coverage and Payment for Outpatient Physical Therapy, Occupational Therapy or Speech-Language Pathology Services. Outpatient Therapy Must be Under the Care of a Physician/Non physician Practitioners (Orders/Referrals and Need for Care). Plans of Care for Outpatient Physical Therapy, Occupational Therapy, or Speech-Language Pathology Services.
| Certification and Recertification of Need for Treatment and Therapy Plans of Care.
| Requirement that Services Be Furnished on an Outpatient Basis.
| Reasonable and Necessary Outpatient Rehabilitation Therapy Services.
| Practice of Physical Therapy, Occupational Therapy, and Speech-Language Pathology.
| Practice of Physical Therapy.
| Practice of Occupational Therapy.
| Practice of Speech-Language Pathology.
| Services Furnished by a Physical or Occupational Therapist in Private Practice.
| Physical Therapy, Occupational Therapy, and Speech-Language Pathology.
| Services Provided Incident to the Services of Physicians and Non-physician Practitioners.
| Therapy Services Furnished Under Arrangements with Providers and Clinics.
Medicare National Coverage Determinations
(CMS—Pub. 100-03)
31 | Positron Emission Tomography (PET) for Brain, Cervical, Ovarian, Pancreatic, Small Cell Lung, and Testicular Cancers. PET Scans. PET for Perfusion of the Heart.
| FDG PET for Lung Cancer.
| FDG PET for Esophageal Cancer.
| FDG PET for Colorectal Cancer.
| FDG PET for Lymphoma.
| FDG PET for Melanoma.
| FDG PET for Head and Neck Cancers.
| FDG PET for Myocardial Viability.
| FDG PET for Refractory Seizures.
| FDG PET for Breast Cancer.
| FDG PET for Thyroid Cancer.
| FDG PET for Soft Tissue Sarcoma.
| FDG PET for Dementia and Neurodegenerative Diseases.
| FDG PET for Brain, Cervical, Ovarian, Pancreatic, Small Cell Lung, and Testicular Cancers. FDG PET for All Other Cancer Indications Not Previously Specified.
32 | Autologous Stem Cell Transplantation.
| Stem Cell Transplantation.
33 | Percutaneous Transluminal Angioplasty.
34 | Abarelix for the Treatment of Prostate Cancer.
35 | Continuous Positive Airway Pressure Therapy for Obstructive Sleep Apnea.
36 | Smoking and Tobacco-Use Cessation Counseling.
37 | Mobility Assistive Equipment.
| Durable Medical Equipment Reference List.
38 | Coverage of Colorectal Anti-Cancer Drugs Included in Clinical Trials Anti-Cancer Chemotherapy for Colorectal Cancer.
39 | Cochlear Implantation.
40 | Coverage of Aprepitant for Chemotherapy-Induced Emesis.
41 | Osteogenic Stimulators.
Medicare Claims Processing
(CMS Pub. 100—04)
515 | Update to 100-04 and Therapy Code Lists. Health Common Procedure Coding System Coding Requirement. Part B Outpatient Rehabilitation and Comprehensive Outpatient Rehabilitation.
| Facility Services—General.
| Discipline Specific Outpatient Rehabilitation Modifiers—All Claims.
| The Financial Limitation.
| Reporting of Service Units With Health Common Procedure Coding System—Form CMS-1500 and Form CMS-1450.
516 | Clarification for Outpatient Prospective Payment System Hospitals Billing. Initial Preventive Exam. Outpatient Prospective Payment System Hospitals Billing. Advanced Beneficiary Notice as Applied to the IPPE.
517 | List of Medicare Telehealth Services. Submission of Telehealth Claims for Distant Site Practitioners. Carrier Editing of Telehealth Claims.
518 | This Transmittal is rescinded and replaced by Transmittal 527.
519 | This Transmittal is rescinded and replaced by Transmittal 525.
520 | Payment Policy Clarification Regarding the Healthcare Common Procedure. Coding System Q3001 Performed in an Ambulatory Surgery Center.
521 | Hemophilia Blood Clotting Factors. Billing for Hemophilia Clotting Factors.
522 | Issued to a specific audience, not posted to Internet/Intranet due to Confidentiality of Instruction.
523 | Implementation of the Physician Scarcity Area and Revision to the Health Professional Shortage Area Payment to a Critical Access Hospital.
524 | Clarification to the Health Professional Shortage Area Language in the Medicare Claims Processing Manual. Services Eligible for Health Professional Shortage Area and Physician Scarcity Bonus Payments.
525 | Flu/PPV Revisions. Billing Requirements. Healthcare Common Procedural Coding System and Diagnosis Codes. Carrier Payment Requirements.
| Roster Claims Submitted to Carriers for Mass Immunization.
| Centralized Billing for Flu and Pneumococcal (PPV) Vaccines to Medicare.
| Common Working File Edits.
| Common Working File Edits on Carrier Claims.
526 | Updated Requirements for Autologous Stem Cell Transplantation. Autologous Stem Cell Transplantation. Billing for Stem Cell Transplantation. Stem Cell Transplantation. Health Common Procedure Coding System and Diagnosis Coding Non-Covered Conditions.
527 | New Coding for FDG PET Scans and Billing Requirements for Specific. Indications of Cervical Cancer.
| Positron Emission Tomography Scans—General Information.
| Billing Instructions.
| Use of Gamma Cameras and Full Ring and Partial Ring Pet Scanners for Positron Emission Tomography Scans.
| Positron Emission Tomography Scan Qualifying Conditions and Health.
| Common Procedure Coding System/Common Procedural Terminology Code Chart. Appropriate Common Procedural Terminology Codes Effective for Positron.
| Emission Tomography Scan Services Performed on or After January 28, 2005. Expanded Coverage of Positron Emission Tomography Scans for Breast Cancer Effective for Services on or After October 1, 2002.
| Coverage of Positron Emission Tomography Scans for Thyroid Cancer.
| Coverage of Positron Emission Tomography Scans for Dementia and Neurodegenerative Diseases.
| Billing Requirements for Positron Emission Tomography Scans for Specific Indications of Cervical Cancer for Services Performed on or After January 28, 2005. Billing Requirements for Positron Emission Tomography Scans for Non-Covered Conditions.
528 | July 2005 Quarterly Average Sales Price (ASP) Medicare Part B Drug Pricing File, Effective July 1, 2005.
529 | Update to Current National Uniform Billing Committee Codes. General Instructions for Completion of Form CMS-1450 for Billing.
530 | Billing Requirements for Physician Services Rendered in Method II Critical Access Hospital. Payment for Inpatient Services Furnished by a Critical Access Hospital. Optional Method for Outpatient Services: Cost-Based Facility Services Plus 115 Percent Fee Schedule Payment for Professional Services. Billing and Payment in a Physician Scarcity Area.
531 | Percutaneous Transluminal Angioplasty (Effective March 17, 2005).
532 | Abarelix for Treatment of Prostate Cancer.
533 | Modification to the Common Working File (CWF) Edit Process for Non-Assigned Medicaid Coordination of Benefits Agreement (COBA) Crossover Claims. Consolidated Claims Crossover Process.
534 | Changes to the Laboratory National Coverage Determination Edit Software for July 2005.
535 | Modification to Appeals Language on Medicare Summary Notice. Appeals Section. Back of the Medicare Summary Notice—Carriers and Intermediaries. Carrier Spanish Medicare Summary Notice Back. Intermediary Spanish MSN Back.
536 | July Quarterly Update for 2005 Durable Medical Equipment, Prosthetics, Orthotics & Supplies Fee Schedule.
537 | Instructions for Downloading the Medicare Zip Code File.
538 | New Waived Tests.
539 | Expansion of Various Alpha and Numeric Fields with in the Outpatient Prospective Payment System Outpatient Code Editor.
540 | Addition to Chapter 6 of the Claims Processing Manual—Skilled Nursing Facility Inpatient Part A Billing: SNF Prospective Payment System Pricer Software. Skilled Nursing Facility Prospective Payment System Pricer Software Input/Output Record Layout. Skilled Nursing Facility Prospective Payment System Rate Components Decision Logic Used by the Pricer on Claims. Annual Updates to the Skilled Nursing Facility Pricer.
541 | Correction to the use of Group Codes for The Enforcement of Mandatory Electronic Submission of Medicare Claims Enforcement.
542 | Modification of Roster Billing for Mass Immunizers Billing for Inpatient Part B Services (Type of Bills 12x and 22x). Claims Submitted to Intermediaries for Mass Immunizations of Influenza and PPV.
543 | Healthcare Provider Taxonomy Code Update.
544 | Modification of FISS Edits for Colorectal Cancer Screening Services (HCPCS Codes G0104, G0106, G0107, G0120, and G0328) Furnished at Skilled Nursing Facilities. Common Working Files Edits.
545 | The Teaching Adjustment for Inpatient Psychiatric Facility Prospective Payment System.
546 | Number of Durable Medical Equipment Prosthetic, Orthotic & Supplies Pricing Files That Must Be Maintained Online for Medicare—Durable Medical Equipment Regional Carrier, Fiscal Intermediary and Regional Home Health Intermediary Only. Online Pricing Files for Durable Medical Equipment Prosthetic, Orthotics & Supplies.
547 | This Transmittal is rescinded and replaced by Transmittal 556.
548 | New Healthcare Common Procedure Coding System (HCPCS) Codes and Systems Edits for Supplies and Accessories for Ventricular Assist Devices.
549 | Update to the Place of Service Code Set to Add a Code for Pharmacy Place of Service Codes and Definitions.
550 | Issued to a specific audience, not posted to Internet/Intranet due to Confidentiality of Instruction.
551 | Dispensing/Supply Fee Code, Payment, and Common Working File Editing for Immunosuppressive Drugs. Pharmacy Supplying Fee.
552 | Changing the Order of Medicare System Edits Affecting Hospice Claims. Submitting Bills In Sequence for a Continuous Inpatient Stay or Course of Treatment.
553 | Expansion of State Codes for Office of Standard & Certification Automated Retrieval System Provider Numbers.
554 | Issued to a specific audience, not posted to Internet/Intranet due to Sensitivity of Instruction.
555 | Fiscal Intermediary Reporting of Add-on-Payments That Do Not Result in a Specific Increase or Decrease in the Amount Reported as Payable for a Claim Or a Service on a Remittance Advice. General Remittance Completion Requirements.
556 | Revision to the Health Professional Shortage Area and Physician Scarcity Area Payment Rules. Services Eligible for Health Professional Shortage Area and Physician Scarcity Bonus Payments.
557 | This Transmittal is rescinded and replaced by Transmittal 566.
558 | July Update to the 2005 Medicare Physician Fee Schedule Database.
559 | Override of Automated Health Professional Shortage Area and/or Physician Scarcity Area Bonus Payments for Globally Billed Services.
560 | Issued to a specific audience, not posted to Internet/Intranet due to Confidentiality of Instruction.
561 | New April 2005 Quarterly ASP Medicare Part B Drug Pricing File and Revisions to January 2005 Quarterly ASP Medicare Part B Drug Pricing File.
562 | Smoking and Tobacco-Use Cessation Counseling Services. Health Common Procedure Coding System and Diagnosis Coding. Carrier Billing Requirements. Fiscal Intermediary Billing Requirements.
| Remittance Advice Notices.
| Medicare Summary Notices. Post-Payment Review for Smoking and Tobacco-Use Cessation Counseling Services.
563 | Quarterly Update to Correct Coding Initiative (CCI) Edits, Version 11.2, Effective July 1, 2005.
564 | July Update to the Medicare Outpatient Code Editor (OCE) Version 20.3 for Bills From Hospitals That Are Not Paid Under The Outpatient Prospective Payment System.
565 | This Transmittal is rescinded and replaced by Transmittal 583.
566 | This Transmittal is rescinded and replaced by Transmittal 573.
567 | Coverage of Colorectal Anti-Cancer Drugs Included in Clinical Trials.
568 | July Quarterly Update to 2005 Annual Update of Health Common Procedure Codes System Codes Used for Skilled Nursing Facility Consolidated Billing Enforcement.
569 | This Transmittal is rescinded and replaced by Transmittal 572.
570 | Common Working File: Addition of Disease Management Auxiliary File.
571 | This Transmittal is rescinded and replaced by Transmittal 575.
572 | July 2005 Outpatient Prospective Payment System Code Editor Specifications Version 6.2.
573 | Clarifying Manual Instructions for Coding and Payment for Drug Administration Under the Hospital Outpatient Prospective Payment System. Billing and Payment for Drugs and Drug Administration. Coding and Payment for Drugs and Biologicals.
| Separately Payable Drugs.
| Packaged Drugs.
| Pass-Through Drugs.
| Non-Pass Through Drugs.
| Coding and Payment for Drug Administration.
| General.
| Administration of Chemotherapy Drugs by Infusion.
| Administration of Chemotherapy Drugs by a Route Other Than Infusion.
| Administration of Non-Chemotherapy Drugs by Infusion.
| Administration of Non-Chemotherapy Drugs by a Route Other Than Infusion.
| Use of Modifier 59.
| Billing for Infusion Hours.
574 | Mobility Assistive Equipment.
575 | New Remittance Advice Message for Referred Clinical Diagnostic/Purchased Diagnostic Service Duplicate Claims.
576 | Correction to Chapter 17, Section 80.2.3, MSN/ANSI X12N Denial Message for Anti-Emetic Drugs.
577 | This Transmittal is rescinded and replaced by Transmittal 594.
578 | Update-Long Term Care Hospital Prospective Payment System Rate Year 2006. Provider Specific File. Facility Level Adjustments. Inputs/Outputs to Pricer.
579 | Update to the National Council for Prescription Drug Program Batch Standard 1.1 Billing Request Companion Document.
580 | New Healthcare Common Procedure Coding System (HCPCS) Drug Codes.
581 | This Transmittal is rescinded and replaced by Transmittal 587.
582 | New Remittance Advice (RA) Message for Referred Clinical Diagnostic/Purchased Diagnostic Service Duplicate Claims.
583 | Access Process for HIPAA 270/271. X12N Health Care Eligibility Benefit Inquiry and Response 270/271.
| Implementation.
| Background.
| Eligibility Workflow.
| Health Care Claim Status Category Codes and Health Care Codes for Use with The Health Care Claim Status Request and Response ASC X12N 276/277.
584 | Update of Health Common Procedure Coding System Codes and File Names, Descriptions and Instructions for Retrieving the 2005 Ambulatory Surgery Center Health Common Procedure Coding System Additions, Deletions and Master Listing.
585 | This Transmittal is rescinded and replaced by Transmittal 599.
586 | Modifications to the National Coordination of Benefits Agreement File. Transfer and Financial Reporting Processes. Consolidation of the Claims Crossover Process. Coordination of Benefits Agreement Detailed Error Notification Process.
587 | New Location for Contractor ID Number on Medicare Summary Notices. Title Section of the Medicare Summary Notice.
588 | Coverage of Colorectal Anti-Cancer Drugs Included in Clinical Trials.
589 | Cochlear Implantation. Billing Requirements for Expanded Coverage of Cochlear Implantation.
| Intermediary Billing Procedures.
| Applicable Bill Types.
| Special Billing Requirements for Intermediaries.
| Intermediary Payment Requirements.
| Carrier Billing Procedures.
| Healthcare Common Procedural Coding System.
590 | Aprepitant for Chemotherapy-Induced Emesis. Oral Anti-Emetic Drugs Used as Full Replacement for Intravenous Anti-Emetic. Drugs as Part of a Cancer Chemotherapeutic Regimen. Health Common Procedure Coding System Codes for Oral Anti-Emetic Drugs. Billing and Payment Instructions for Fiscal Intermediaries.
591 | Medicare Contractor Annual Update of the International Classification of Diseases, Ninth Revision, Clinical Modification.
592 | Social Security Administration Data for Incarcerated Beneficiaries.
593 | Disposition of Misdirected Claims to the Carrier.
| A Local Carrier Receives a Claim for a United Mine Workers of America Beneficiary.
594 | Preliminary Instructions: Expedited Determinations/Reviews for Original Medicare. Coordination With the Quality Improvement Organization. Limitation on Liability (LOL) Under § 1879 Where Medicare Claims Are Disallowed.
| Hospital-Issued Notices of Noncoverage.
| Determining Beneficiary Liability in Claims for Ancillary and Outpatient Services.
| Application of Limitation on Liability to Skilled Nursing Facility and Hospital Claims for Services Furnished in Noncertified or Inappropriately Certified Beds.
| Determining Liability for Services Furnished in a Noncertified Skilled Nursing Facility or Hospital Bed.
595 | This Transmittal is rescinded and replaced by Transmittal 598.
596 | Indian Health Service or Tribal Hospitals Including Critical Access Hospital Payment Methodology for Inpatient Social Admissions and Outpatient Services Occurring During Concurrent Stays.
597 | Coverage and Billing for Ultrasound Stimulation for Nonunion Fracture Healing Coverage Requirements. Intermediary Billing Requirements. Bill Types. Carrier and Intermediary Billing Instructions. Durable Medical Equipment Regional Carrier Billing Instructions.
598 | Implementation of Carrier Guidelines for End Stage Renal Disease. Reimbursement for Automated Multi-Channel Chemistry Tests. (Supplemental to Change Request 2813).
| Automated Multi-Channel Chemistry Tests for End Stage Renal Disease.
| Beneficiaries—Fiscal Intermediaries.
| Claims Processing for Separately Billable Tests for End Stage Renal Disease Beneficiaries.
599 | July 2005 Update of the Hospital Outpatient Prospective Payment System.
600 | New Healthcare Common Procedure Coding System Drug Codes.
Medicare Secondary Payer
(CMS—Pub. 100-05)
28 | Working Aged Exception for Small Employers in Multi-Employer Group Health Plans.
29 | Assignment of Non-Payment/Denial Code Specific to the Recovery Audit Contractor Created Group Health Plan Occurrences. Identification of Recovery Audit Contractor Created Group Health Plan Records.
30 | Process to Address Freedom of Information and Subpoena Requests. Handling Freedom of Information and Subpoena Duces Tecum Received In the Medicare Secondary Payer Units .
Medicare Financial Management | (CMS—Pub. 100-06)
67 | Notice of New Interest Rate for Medicare Overpayments and Underpayments.
68 | Instructions for Affiliated Contractors Involved in the Recovery Audit Contractor Demonstration. Affiliated Contractor and Program Safeguard Contractor Interaction with the Non-Medicare Secondary Payer Recovery Audit Contractors. Non-Medicare Secondary Payer Recovery Audit Contractors. Program Safeguard Contractor Communication with the Recovery Audit Contractors.
| Overview of the Recovery Audit Contractor Process. Full Program Safeguard Contractor Requirements Surrounding Recovery. Audit Contractor Non-Medicare Secondary Payer Identification Process. Providing Suppressed Cases to the Recovery Audit Contractor Database. Adjusting the Claim.
| Disputing/Disagreeing with a Recovery Audit Contractor Decision.
| Handling Overpayment and Underpayments Resulting from the Recovery.
| Audit Contractor Findings.
| Underpayments.
| Setting up an Accounts Receivable.
| Recoupments Received on a Recovery Audit Contractor Initiated Overpayment.
| Extended Repayments Received on a Recovery Audit Contractor Initiated Overpayment.
| Handling Appeals Resulting from Recovery Audit Contractor Initiated Denials.
| Referrals to the Department of Treasury.
| Tracking Overpayments and Appeals.
| Tracking Overpayments.
| Tracking Appeals.
| Reporting Administrative Costs Directly Associated with the Recovery Audit.
| Contractor Demonstration Project.
| Potential Fraud.
| Affiliated Contractor/Full Program Safeguard Contractor Requirements.
| Involving Recovery Audit Contractor Information Dissemination.
| Contacting Non-Responders.
| Voluntary Refunds.
| Working with the Recovery Audit Contractor Evaluation Contractor.
69 | Update to Debt Collection System (DCS) User Guide .
Medicare State Operations Manual
(CMS—Pub. 100-07)
06 | Expansion of State Codes for OSCAR Provider Numbers. Provider Identification Number. Home Health Agency Branch Identification Numbers. Outpatient Physical Therapy Extension Identification Numbers.
07 | This Transmittal is rescinded and replaced by Transmittal 8.
08 | Revision of Appendix PP—Section 483.25(d)—Urinary Incontinence, Tags F315 and F316.
Medicare Program Integrity | (CMS—Pub. 100-08)
107 | Updated Chapter 1 to Reflect Changes in Program Requirements. Types of Claims for Which Contractors Are Responsible. Quality of Care Issues.
| The Medicare Medical Review Program.
| Goal of the Medical Review Program.
| Medical Review Manager.
| Annual Medical Review/Local Provider Education Training Strategy.
| Data Analysis and Information Gathering.
| Problem Identification & Prioritization.
| Intervention Planning.
| Program Management.
| Budget and Workload Management.
| Staffing and Workforce Management.
| Local Provider Education and Training Program.
| Local Provider Education Training Activities.
| One-on-One Provider Education.
| Education Delivered to a Group of Providers.
| Education Delivered via Electronic Media.
| Description of Methods of Education.
| Proactive Local Educational Meetings.
| Comprehensive Educational Interventions.
| Comparative Billing Report Education.
| Frequently Asked Question Regarding Local Education Issues.
| Bulletin Articles/Advisories Regarding Local Education Issues.
| Scripted Response Documents on Local Education Issues.
| Local Provider Education Training Staff.
108 | Change in Statistical Sampling Instructions. General Purpose. The Purpose of Statistical Sampling. Steps for Conducting Statistical Sampling.
| Determining When Statistical Sampling May be Used.
| Consultation With a Statistical Expert.
| Use of Other Sampling Methodologies.
| Probability Sampling.
| Selection of Period for Review.
| Defining the Universe, the Sampling Unit, and the Sampling Frame.
| Composition of the Universe.
| The Sampling Unit.
| Stratified Sampling.
| Cluster Sampling.
| Random Number Selection.
| Determining Sample Size.
| Documentation of Sampling Methodology.
| Documentation of Universe and Frame.
| Worksheets.
| Informational Copies to GTL, Co-GTL, SME or CMS RO.
| The Point Estimate.
| Actions Performed Following Selection of Provider or Supplier and Sample.
| Notification of Provider or Supplier of the Review and Selection of the Review Site
| Written Notification of the Review. Determining Review Site.
109 | Updated Standard System Changes for Provider Enrollment Chain Ownership System and Multi-Carrier System.
110 | Revise CERT Shared Systems Modules to Retrieve Claims Files Using Only Internal Control Number as a Key.
111 | Revising the Fiscal Intermediary Standard System Shared System.
112 | Requirement that Part B/Carriers Submit All Provider Addresses to the Comprehensive Error Rate Testing Program Contractor.
113 | Shared System Maintainer Hours for PECOS Problems and/or Implementation Changes.
114 | Change in Statistical Sampling Instructions. General Purpose. The Purpose of Statistical Sampling.
| Steps for Conducting Statistical Sampling.
| Determining When Statistical Sampling May Be Used.
| Consultation With a Statistical Expert.
| Use of Other Sampling Methodologies.
| Probability Sampling.
| Selection of Period for Review.
| Defining the Universe, the Sampling Unit, and the Sampling Frame.
| Composition of the Universe.
| The Sampling Unit.
| Stratified Sampling.
| Cluster Sampling......
| Random Number Selection.
| Determining Sample Size.
| Documentation of Sampling Methodology.
| Documentation of Universe and Frame.
| Worksheets.
| Informational Copies to GTL, Co-GTL, SME or CMS RO.
| The Point Estimate.
| Actions Performed Following Selection of Provider or Supplier and Sample.
| Notification of Provider or Supplier of the Review and Selection of the Review Site.
| Written Notification of the Review.
| Determining Review Site.
Medicare Contractor Beneficiary and Provider Communications
(CMS—Pub. 100-09)
09 | Additions and Corrections to Provider Inquiry and Provider Communications Program Requirements.
10 | This Transmittal is rescinded and replaced by Transmittal 11.
11 | FY 2005 Beneficiary Telephone Customer Services. Beneficiary Services. Guidelines for Beneficiary Telephone Services (Activity Code 13005).
| Toll Free Network Services.
| Publication of Toll Free Numbers.
| Call Handling Requirements.
| Customer Service Assessment and Management System Reporting Requirements. Customer Service Representative Training.
| Quality Call Monitoring.
| Disclosure of Information (Adherence to the Privacy Act and the Health Insurance Portability and Accountability Act Privacy Rule). Second Level Screening of Beneficiary and Provider Inquiries (Activity Code 13201). Second Level Screening of Provider Inquiries (Miscellaneous Code 13201/01).
| Medicare Customer Service Next Generation Desktop.
| Publication Requests.
| Medicare Participating Physicians and Suppliers Directory.
| Transfer of Part A Telephone/Written Inquiries Workload.
| Guidelines for Handling Beneficiary Written Inquiries (Activity Code 13002). Contractor Guidelines for High Quality Written Responses to Inquiries Surveys.
| Guidelines for High Quality Walk-In Services.
| Customer Service Plans (Activity Code 13004).
| Beneficiary Internet Web Sites.
Medicare Managed Care
(CMS—Pub. 100-16)
00 | None.
Medicare Business Partners Systems Security
(CMS—Pub. 100-17)
00 | None
Demonstrations
(CMS—Pub. 100-19)
22 | Assignment of Non-Payment/Denial Code Specific to the Recovery Audit Contractor Created Group Health Plan Occurrences.
23 | This Transmittal is rescinded and replaced by 25.
24 | Instructions for Affiliated Contractors Involved in the Recovery Audit Contractor Demonstration.
25 | Low Vision Rehabilitation Demonstration.
One Time Notification
(CMS—Pub. 100-20)
147 | Medicare Health Insurance Portability & Accountability Act Electronic Claims Report—Second Reporting Timeframe Extension.
148 | Revised Coding Guidelines for Drug Administration Codes.
149 | Requirements for Voided, Canceled, and Deleted Claims.
150 | Shared System Maintainer Hours for Resolution of Problems Detected During Health Insurance Portability and Accountability Act Transaction Release Testing.
151 | Common Working File Calculation of Next Eligible Date for Preventive Services.
152 | Issued to a specific audience, not posted to Internet/Intranet due to Confidentiality of Instruction.
153 | This Transmittal is rescinded and replaced by Transmittal 155.
154 | Correction 2005 Clinical Laboratory Travel Fee (P9603 P9604).
155 | Payment to Ambulatory Surgery Centers for New CPT Code 66711.
156 | New Patient Status Code to Define Discharges or Transfers to a Critical Access Hospital.
157 | CD-ROM Initiative for Distribution of the Annual Disclosure, “Dear Doctor” Letter and Participation Enrollment Material.
158 | Instructions for Fiscal Intermediaries to Process Payment Adjustments Resulting from Data Assessment and Verification Program Safeguard Contractor Medical Review.
159 | Requirements for Voided, Canceled, and Deleted Claims.
160 | Issued to a specific audience, not posted to Internet/Intranet due to Confidentiality of Instruction.

Addendum IV.—Regulation Documents Published in the Federal Register
[April through June 2005]
Publication date | FR Vol. 70 Page No. | CFR Parts affected | File code | Title of regulation
April 1, 2005 | 16754 | 421 and 413 | CMS-1213-CN | Medicare Program; Prospective Payment System for Inpatient Psychiatric Facilities; Correction.
April 1, 2005 | 16720 | 403, 405, 410, 411, 414, 418, 424, 484, and 486 | CMS-1429-F2 | Medicare Program; Revisions to Payment Policies Under the Physician Fee Schedule for Calendar Year 2005: Correcting Amendment.
April 7, 2005 | 17697 |  | CMS-5029-N | Medicare Program; Rural Hospice Demonstration.
April 8, 2005 | 18028 |  | CMS-1296-N2 | Medicare Program; Request for Nominations to the Advisory Panel on Ambulatory Payment Classification Groups; Extension of Nominations Deadline.
April 12, 2005 | 19090 |  | CMS-5033-N6 | Medicare Program; Cancellation of the April 13, 2005 Advisory Board Meeting on the Demonstration of a Bundled Case-Mix Adjusted Payment System for End-Stage Renal Disease Services.
April 22, 2005 | 20916 |  | CMS-4107-N | Medicare Program; Request for Nominations for the Advisory Panel on Medicare Education.
April 25, 2005 | 21146 | 45 CFR Part 146 | CMS-2151-F | Final Regulations for Health Coverage Portability for Group Health Plans and Group Health Insurance Issuers Under HIPAA Titles I and IV; Correction.
April 29, 2005 | 22394 | 418 | CMS-1286-P | Medicare Program; Proposed Hospice Wage Index for Fiscal Year 2006.
April 29, 2005 | 22321 |  | CMS-1314-N | Medicare Program; Meeting of the Practicing Physicians Advisory Council, May 23, 2005.
April 29, 2005 | 22320 |  | CMS-5033-N4 | Medicare Program; Meeting of the Advisory Board on the Demonstration of a Bundled Case-Mix Adjusted Payment System for End-Stage Disease Services—May 24, 2005.
April 29, 2005 | 22317 |  | CMS-2207-N | Medicare, Medicaid, and CLIA Programs; Clinical Laboratory Improvement Amendments of 1988; Continuance of Exemption of Laboratories Licensed by the State of Washington.
May 4, 2005 | 23690 | 416 | CMS-1478-IFC | Medicare Program; Update of Ambulatory Surgical Center List of Covered Procedures.
May 4, 2005 | 23306 | 405, 412, 413, 415, 419, 422, and 485 | CMS-1500-P | Medicare Program; Proposed Changes to the Hospital Inpatient Prospective Payment Systems and Fiscal Year 2006 Rates.
May 6, 2005 | 24168 | 412 | CMS-1483-F | Medicare Program; Prospective Payment System for Long-Term Care Hospitals: Annual Payment Rate Updates, Policy Changes, and Clarification.
May 18, 2005 | 28541 |  | CMS-1269-N4 | Medicare Program; Emergency Medical Treatment and Labor Act (EMTALA Technical Advisory Group (TAG) Meeting—June 15, 2005 through June 17, 2005.
May 19, 2005 | 29070 | 424 | CMS-1282-P | Medicare Program; Prospective Payment System and Consolidated Billing for Skilled Nursing Facilities for FY 2006.
May 24, 2005 | 29765 |  | CMS-2214-N | Medicaid Program; Establishment of the Medicaid Commission and Request for Nominations for Members.
May 25, 2005 | 30188 | 412 | CMS-1290-P | Medicare Program; Inpatient Rehabilitation Facility Prospective Payment System for FY 2006.
May 27, 2005 | 30840 | 418 | CMS-3844-P | Medicare and Medicaid Programs; Hospice Conditions of Participation.
May 27, 2005 | 30734 |  | CMS-1293-N | Medicare Program; Public Meeting in Calendar Year 2005 for New Clinical Laboratory Tests Payment Determinations.
May 27, 2005 | 30733 |  | CMS-4095-N | Medicare Program; Meeting of the Advisory Panel on Medicare Education, June 21, 2005.
May 27, 2005 | 30731 |  | CMS-3144-N | Medicare Program; Calendar Year 2005 Review of the Appropriateness of Payment Amounts for New Technology Intraocular Lenses (NTIOLs) Furnished by Ambulatory Surgical Centers (ASCs).
May 27, 2005 | 30640 | 413 | CMS-1199-IFC | Medicare Program; Electronic Submission of Cost Reports: Revision to Effective Date of Cost Reporting Period.
June 17, 2005 | 35204 | 400 and 421 | CMS-6030-P2 | Medicare Program; Medicare Integrity Program, Fiscal Intermediary and Carrier Functions, and Conflict of Interest Requirements.
June 24, 2005 | 36642 |  | CMS-5033-N5 | Medicare Program; Meeting of the Advisory Board on the Demonstration of a Bundled Case-Mix Adjusted Payment System for End-Stage Renal Disease Services—July 14 through July 15, 2005.
June 24, 2005 | 36640 |  | CMS-1480-N | Medicare Program; Inpatient Rehabilitation Facility Compliance Criteria.
June 24, 2005 | 36620 |  | CMS-9028-N | Medicare and Medicaid Programs; Quarterly Listing of Program Issuances—January through March 2005.
June 24, 2005 | 36615 |  | CMS-2219-N | State Children's Health Insurance Program; Final Allotments to States, the District of Columbia, and U.S. Territories and Commonwealths for Fiscal Year 2006.
June 24, 2005 | 36613 |  | CMS-5022-N | Medicare Program; Solicitation for Applications for the Medical Adult Day-Care Services Demonstration.
June 24, 2005 | 36533 | 416 | CMS-1478-CN | Medicare Program; Update of Ambulatory Surgical Center List of Covered Procedures; Correction.
June 30, 2005 | 37700 | 401 and 405 | CMS-4064-IFC2 | Medicare Program; Changes to the Medicare Claims Appeal Procedures: Correcting Amendment to an Interim Final Rule.

Addendum V—National Coverage Determinations

[January Through March 2005]

A national coverage determination (NCD) is a determination by the Secretary with respect to whether or not a particular item or service is covered nationally under Title XVIII of the Social Security Act, but does not include a determination of what code, if any, is assigned to a particular item or service covered under this title, or determination with respect to the amount of payment made for a particular item or service so covered. We include below all of the NCDs that were issued during the quarter covered by this notice. The entries below include information concerning completed decisions as well as sections on program and decision memoranda, which also announce pending decisions or, in some cases, explain why it was not appropriate to issue an NCD. We identify completed decisions by the section of the NCDM in which the decision appears, the title, the date the publication was issued, and the effective date of the decision. Information on completed decisions as well as pending decisions has also been posted on the CMS Web site at http://cms.hhs.gov/coverage.

National Coverage Determinations
[April Through June 2005]
Title | NCDM section | TN no. | Issue date | Effective date
PET for 6 Cancers (Brain, Ovarian, Testicular, Small-Cell Lung, Pancreatic, Cervical) | 220.14 | R31NCD | 04/01/05 | 01/28/05
Autologous Stem Cell Transplantations for Amyloidosis | 110.8.1 | R32NCD | 04/15/05 | 03/15/05
Percutaneous Transluminal Angioplasty (PTA) | 20.7 | R33NCD | 04/22/05 | 03/17/05
Abarelix/Plenaxis for Treatment of Prostate Cancer | 110.19 | R34NCD | 04/25/05 | 03/15/05
Continuous Positive Airway Pressure (CPAP) for Obstructive Sleep Apnea (OSA) | 240.4 | R35NCD | 05/06/05 | 04/04/05
Smoking and Tobacco Use Cessation Counseling | 210.4 | R36NCD | 05/20/05 | 03/22/05
Mobility Assistive Equipment (MAE) | 280.3 | R37NCD | 05/05/05 | 03/25/05
Anti-Cancer Chemotherapy for Colorectal Cancer | 110.17 | R38NCD | 06/17/05 | 01/28/05
Cochlear Implantation | 50.3 | R39NCD | 06/24/05 | 04/04/05
Aprepitant for Chemotherapy-Induced Emesis | 110.18 | R40NCD | 06/24/05 | 04/04/05
Osteogenic Stimulators | 150.2 | R41NCD | 06/24/05 | 04/27/05

Addendum VI.—FDA-Approved Category B IDEs

[April Through June 2005]

Under the Food, Drug, and Cosmetic Act (21 U.S.C. 360c) devices fall into one of three classes. To assist CMS under this categorization process, the FDA assigns one of two categories to each FDA-approved IDE. Category A refers to experimental IDEs, and Category B refers to non-experimental IDEs. To obtain more information about the classes or categories, please refer to the Federal Register notice published on April 21, 1997 (62 FR 19328).

The following list includes all Category B IDEs approved by FDA during the second quarter, April through June 2005.

IDE/Category: B012305, B012314, B012410, G000119, G000165, G020211, G030161, G030165, G030219, G030230, G030263, G040078, G040102, G040158, G040168, G040172, G040184, G040214, G040229, G050002, G050012, G050034, G050042, G050045, G050049, G050050, G050052, G050053, G050056, G050058, G050059, G050061, G050062, G050063, G050066, G050070, G050074, G050075, G050077, G050078, G050083, G050084, G050085, G050088, G050089, G050089, G050090, G050091, G050094, G050096, G050097, G050099, G050101, G050102, G050105, G050106, G050110, G960204, G970145, G980102, G990106, G990216.

Addendum VII.—Approval Numbers for Collections of Information

Below we list all approval numbers for collections of information in the referenced sections of CMS regulations in Title 42; Title 45, Subchapter C; and Title 20 of the Code of Federal Regulations, which have been approved by the Office of Management and Budget:

OMB Control No. | Approved CFR Sections in Title 42, Title 45, and Title 20 (Note: Sections in Title 45 are preceded by “45 CFR,” and sections in Title 20 are preceded by “20 CFR”)
0938-0008 | 414.40, 424.32, 424.44
0938-0022 | 413.20, 413.24, 413.106
0938-0023 | 424.103
0938-0025 | 406.28, 407.27
0938-0027 | 486.100-486.110
0938-0033 | 405.807
0938-0035 | 407.40
0938-0037 | 413.20, 413.24
0938-0041 | 408.6, 408.22
0938-0042 | 410.40, 424.124
0938-0045 | 405.711
0938-0046 | 405.2133
0938-0050 | 413.20, 413.24
0938-0062 | 431.151, 435.1009, 440.220, 440.250, 442.1, 442.10-442.16, 442.30, 442.40, 442.42, 442.100-442.119, 483.400-483.480, 488.332, 488.400, 498.3-498.5
0938-0065 | 485.701-485.729
0938-0074 | 491.1-491.11
0938-0080 | 406.7, 406.13
0938-0086 | 420.200-420.206, 455.100-455.106
0938-0101 | 430.30
0938-0102 | 413.20, 413.24
0938-0107 | 413.20, 413.24
0938-0146 | 431.800-431.865
0938-0147 | 431.800-431.865
0938-0151 | 493.1405, 493.1411, 493.1417, 493.1423, 493.1443, 493.1449, 493.1455, 493.1461, 493.1469, 493.1483, 493.1489
0938-0155 | 405.2470
0938-0170 | 493.1269-493.1285
0938-0193 | 430.10-430.20, 440.167
0938-0202 | 413.17, 413.20
0938-0214 | 411.25, 489.2, 489.20
0938-0236 | 413.20, 413.24
0938-0242 | 442.30, 488.26
0938-0245 | 407.10, 407.11
0938-0246 | 431.800-431.865
0938-0251 | 406.7
0938-0266 | 416.41, 416.47, 416.48, 416.83
0938-0267 | 410.65, 485.56, 485.58, 485.60, 485.64, 485.66
0938-0269 | 412.116, 412.632, 413.64, 413.350, 484.245
0938-0270 | 405.376
0938-0272 | 440.180, 441.300-441.305
0938-0273 | 485.701-485.729
0938-0279 | 424.5
0938-0287 | 447.31
0938-0296 | 413.170, 413.184
0938-0301 | 413.20, 413.24
0938-0302 | 418.22, 418.24, 418.28, 418.56, 418.58, 418.70, 418.74, 418.83, 418.96, 418.100
0938-0313 | 489.11, 489.20
0938-0328 | 482.12, 482.13, 482.21, 482.22, 482.27, 482.30, 482.41, 482.43, 482.45, 482.53, 482.56, 482.57, 482.60, 482.61, 482.62, 482.66, 485.618, 485.631
0938-0334 | 491.9, 491.10
0938-0338 | 486.104, 486.106, 486.110
0938-0354 | 441.60
0938-0355 | 442.30, 488.26
0938-0357 | 409.40-409.50, 410.36, 410.170, 411.4-411.15, 421.100, 424.22, 484.18, 489.21
0938-0358 | 412.20-412.30
0938-0359 | 412.40-412.52
0938-0360 | 488.60
0938-0365 | 484.10, 484.11, 484.12, 484.14, 484.16, 484.18, 484.20, 484.36, 484.48, 484.52
0938-0372 | 414.330
0938-0378 | 482.60-482.62
0938-0379 | 442.30, 488.26
0938-0382 | 442.30, 488.26
0938-0386 | 405.2100-405.2171
0938-0391 | 488.18, 488.26, 488.28
0938-0426 | 476.104, 476.105, 476.116, 476.134
0938-0429 | 447.53
0938-0443 | 473.18, 473.34, 473.36, 473.42
0938-0444 | 1004.40, 1004.50, 1004.60, 1004.70
0938-0445 | 412.44, 412.46, 431.630, 456.654, 466.71, 466.73, 466.74, 466.78
0938-0447 | 405.2133
0938-0448 | 405.2133, 45 CFR 5, 5b; 20 CFR Parts 401, 422E
0938-0449 | 440.180, 441.300-441.310
0938-0454 | 424.20
0938-0456 | 412.105
0938-0463 | 413.20, 413.24, 413.106
0938-0467 | 431.17, 431.306, 435.910, 435.920, 435.940-435.960
0938-0469 | 417.126, 422.502, 422.516
0938-0470 | 417.143, 417.800-417.840, 422.6
0938-0477 | 412.92
0938-0484 | 424.123
0938-0501 | 406.15
0938-0502 | 433.138
0938-0512 | 486.304, 486.306, 486.307
0938-0526 | 475.102, 475.103, 475.104, 475.105, 475.106
0938-0534 | 410.38, 424.5
0938-0544 | 493.1-493.2001
0938-0564 | 411.32
0938-0565 | 411.20-411.206
0938-0566 | 411.404, 411.406, 411.408
0938-0573 | 412.230, 412.256
0938-0578 | 447.534
0938-0581 | 493.1-493.2001
0938-0599 | 493.1-493.2001
0938-0600 | 405.371, 405.378, 413.20
0938-0610 | 417.436, 417.801, 422.128, 430.12, 431.20, 431.107, 434.28, 483.10, 484.10, 489.102
0938-0612 | 493.801, 493.803, 493.1232, 493.1233, 493.1234, 493.1235, 493.1236, 493.1239, 493.1241, 493.1242, 493.1249, 493.1251, 493,1252, 493.1253, 493.1254, 493.1255, 493.1256, 493.1261, 493.1262, 493.1263, 493.1269, 493.1273, 493.1274, 493.1278, 493.1283, 493.1289, 493.1291, 493.1299
0938-0618 | 433.68, 433.74, 447.272
0938-0653 | 493.1771, 493.1773, 493.1777
0938-0657 | 405.2110, 405.2112
0938-0658 | 405.2110, 405.2112
0938-0667 | 482.12, 488.18, 489.20, 489.24
0938-0679 | 410.38
0938-0685 | 410.32, 410.71, 413.17, 424.57, 424.73, 424.80, 440.30, 484.12
0938-0686 | 493.551-493.557
0938-0688 | 486.304, 486.306, 486.307, 486.310, 486.316, 486.318, 486.325
0938-0690 | 488.4-488.9, 488.201
0938-0691 | 412.106
0938-0692 | 466.78, 489.20, 489.27
0938-0701 | 422.152
0938-0702 | 45 CFR 146.111, 146.115, 146.117, 146.150, 146.152, 146.160, 146.180
0938-0703 | 45 CFR 148.120, 148.124, 148.126, 148.128
0938-0714 | 411.370-411.389
0938-0717 | 424.57
0938-0721 | 410.33
0938-0723 | 421.300-421.318
0938-0730 | 405.410, 405.430, 405.435, 405.440, 405.445, 405.455, 410.61, 415.110, 424.24
0938-0732 | 417.126, 417.470
0938-0734 | 45 CFR 5b
0938-0739 | 413.337, 413.343, 424.32, 483.20
0938-0742 | 422.300-422.312
0938-0749 | 424.57
0938-0753 | 422.000-422.700
0938-0754 | 441.151, 441.152
0938-0758 | 413.20, 413.24
0938-0760 | Part 484 Subpart E, 484.55
0938-0761 | 484.11, 484.20
0938-0763 | 422.1-422.10, 422.50-422.80, 422.100-422.132, 422.300-422.312, 422.400-422.404, 422.560-422.622
0938-0770 | 410.2
0938-0778 | 422.64, 422.111
0938-0779 | 417.126, 417.470, 422.64, 422.210
0938-0781 | 411.404-411.406, 484.10
0938-0786 | 438.352, 438.360, 438.362, 438.364
0938-0787 | 406.28, 407.27
0938-0790 | 460.12, 460.22, 460.26, 460.30, 460.32, 460.52, 460.60, 460.70, 460.71, 460.72, 460.74, 460.80, 460.82, 460.98, 460.100, 460.102, 460.104, 460.106, 460.110, 460.112, 460.116, 460.118, 460.120, 460.122, 460.124, 460.132, 460.152, 460.154, 460.156, 460.160, 460.164, 460.168, 460.172, 460.190, 460.196, 460.200, 460.202, 460.204, 460.208, 460.210
0938-0792 | 491.8, 491.11
0938-0798 | 413.24, 413.65, 419.42
0938-0802 | 419.43
0938-0818 | 410.141, 410.142, 410.143, 410.144, 410.145, 410.146, 414.63
0938-0829 | 422.568
0938-0832 | Parts 489 and 491
0938-0833 | 483.350-483.376
0938-0841 | 431.636, 457.50, 457.60, 457.70, 457.340, 457.350, 457.431, 457.440, 457.525, 457.560, 457.570, 457.740, 457.750, 457.810, 457.940, 457.945, 457.965, 457.985, 457.1005, 457.1015, 457.1180
0938-0842 | 412.23, 412.604, 412.606, 412.608, 412.610, 412.614, 412.618, 412.626, 413.64
0938-0846 | 411.352-411.361
0938-0857 | Part 419
0938-0860 | Part 419
0938-0866 | 45 CFR Part 162
0938-0872 | 413.337, 483.20
0938-0873 | 422.152
0938-0874 | 45 CFR Parts 160 and 162
0938-0878 | Part 422 Subpart F & G
0938-0883 | 45 CFR Parts 160 and 164
0938-0884 | 405.940
0938-0887 | 45 CFR 148.316, 148.318, 148.320
0938-0897 | 412.22, 412.533
0938-0907 | 412.230, 412.304, 413.65
0938-0910 | 422.620, 422.624, 422.626
0938-0911 | 426.400, 426.500
0938-0916 | 483.16
0938-0920 | 438.6, 438.8, 438.10, 438.12, 438.50, 438.56, 438.102, 438.114, 438.202, 438.206, 438.207, 438.240, 438.242, 438.402, 438.404, 438.406, 438.408, 438.410, 438.414, 438.416, 438.710, 438.722, 438.724, 438.810
0938-0921 | 414.804
0938-0931 | 45 CFR Part 142.408, 162.408, and 162.406
0938-0933 | 438.50
0938-0934 | 403.766
0938-0936 | 423
0938-0940 | 484 and 488
0938-0944 | 422.250, 422.252, 422.254, 422.256, 422.258, 422.262, 422.264, 422.266, 422.270, 422.300, 422.304, 422.306, 422.308, 422.310, 422.312, 422.314, 422.316, 422.318, 422.320, 422.322, 422.324, 423.251, 423.258, 423.265, 423.272, 423.279, 423.286, 423.293, 423.301, 423.308, 423.315, 423.322, 423.329, 423.336, 423.343, 423.346, 423.350
0938-0950 | 405.910
0938-0951 | 423.48
0938-0953 | 405.1200 and 405.1202

Addendum VIII

Medicare-Approved Carotid Stent Facilities

[April Through June 2005]

On March 17, 2005, we issued our decision memorandum on carotid artery stenting. We determined that carotid artery stenting with embolic protection is reasonable and necessary only if performed in facilities that have been determined to be competent in performing the evaluation, procedure, and follow-up necessary to ensure optimal patient outcomes. We have created a list of minimum standards for facilities modeled in part on professional society statements on competency. All facilities must at least meet our standards in order to receive coverage for carotid artery stenting for high risk patients.

April 1, 2005

Bon Secours St. Mary's Hospital

5801 Bremo Road

Richmond, VA 23226

Medicare Provider #490059

Clear Lake Regional Medical Center

500 Medical Center Blvd

Webster, TX 77598

Medicare Provider #450617

Louisiana Heart Hospital

64030 Louisiana Highway 434

Lacombe, LA 70445

Medicare Provider #190250

Phoenix Baptist Hospital

Cardiac Catheterization Laboratory/Interventional Radiology Suite

200 West Bethany Home Road

Phoenix, AZ 85015

Medicare Provider #030030

Saint Joseph Medical Center

Twelfth and Walnut Streets

P.O. Box 316

Reading, PA 19603-0316

Medicare Provider #390096

St. Francis Hospital & Health Centers

1600 Albany Street

Beech Grove, IN 46107

Medicare Provider #150033

University of Pennsylvania Medical Center-Presbyterian

39th and Market Streets

Philadelphia, PA 19104

Medicare Provider #390223

April 4, 2005

Emory University Hospital

1364 Clifton Road, NE

Atlanta, GA 30322

Medicare Provider #110010

Hoag Memorial Hospital Presbyterian

One Hoag Drive

Newport Beach, CA 92663

Medicare Provider #050224

Lakeland Hospital

1234 Napier Avenue

St. Joseph, MI 49085

Medicare Provider #230021

April 7, 2005

The Baldwin County Eastern Shore

Health Care Authority

d/b/a Thomas Hospital

750 Morphy Avenue

Fairhope, AL 36532

Medicare Provider #010100

Martha Jefferson Hospital

459 Locust Avenue

Charlottesville, VA 22902

Medicare Provider #490077

Mercy Medical Center

701 10th Street SE.

Cedar Rapids, IA 52403

Medicare Provider #160079

Mount Sinai Medical Center

4300 Alton Road

Miami Beach, FL 33140

Medicare Provider #100034

Skyline Medical Center

3441 Dickerson Pike

Nashville, TN 37207

Medicare Provider #440006

Union Memorial Hospital

201 East University Parkway

Baltimore, MD 21218-2895

Medicare Provider #210024

April 12, 2005

Baptist Hospital East

4000 Kresage Way

Louisville, KY 40207

Medicare Provider #180130

Baptist Hospital of East Tennessee

137 Blount Avenue

Knoxville, TN 37920

Medicare Provider #440019

Borgess Medical Center

1521 Gull Road

Kalamazoo, MI 49048

Medicare Provider #020117

The Cleveland Clinic Foundation

9500 Euclid Avenue

Cleveland, OH 44195

Medicare Provider #360180

Good Samaritan Hospital

1225 Wilshire Boulevard

Los Angeles, CA 90017

Medicare Provider #050471

Good Samaritan Hospital

2425 Samaritan Drive

San Jose, CA 95124

Medicare Provider #050380

Harbor-UCLA Medical Center

1000 West Carson Street

Torrance, CA 90502

Medicare Provider #050376

Hunterdon Medical Center

2100 Wescott Drive

Flemington, NJ 08822

Medicare Provider #310005

Jewish Hospital

200 Abraham Flexner Way

Louisville, KY 40202

Medicare Provider #180040

Mercy Health Center

4300 West Memorial Road

Oklahoma City, OK 73120-8304

Medicare Provider #370013

Mercy Medical Center

1111 6th Avenue

Des Moines, IA 50314

Medicare Provider #160083

Methodist Hospital

300 West Huntington Drive

P.O. Box 60016

Arcadia, CA 91066-6016

Medicare Provider #050238

North Austin Medical Center

12221 MoPac Expressway North

Austin, TX 78758

Medicare Provider #450809

Ochsner Clinic Foundation

Department of Cardiology

1514 Jefferson Highway

New Orleans, LA 70121-2483

Medicare Provider #190036

Princeton Baptist Medical Center

701 Princeton Avenue, SW

Birmingham, AL 35211-1399

Medicare Provider #010103

Resurrection Medical Center

7435 West Talcott

Chicago, IL 60631

Medicare Provider #140117

South Austin Hospital

901 W. Ben White

Austin, TX 78704

Medicare Provider #450713

St. Patrick Hospital and Health Sciences Center

500 West Broadway

Missoula, MT 59802

Medicare Provider #270014

April 14, 2005

Fort Walton Beach Medical Center

1000 Mar Walt Drive

Fort Walton Beach, FL 32547

Medicare Provider #100223

York Hospital

15 Hospital Drive

York, ME 03909

Medicare Provider #200020

April 18, 2005

Alexian Brothers Medical Center

800 W. Biesterfield Road

Elk Grove Village, IL 60007

Medicare Provider #140258

Arizona Heart Hospital

1930 E. Thomas Road

Phoenix, AZ 85106

Medicare Provider #030102

Baptist Memorial Hospital

6019 Walnut Grove Road

Memphis, TN 38102

Medicare Provider #440048

CHRISTUS St. Frances Cabrini Hospital

3330 Masonic Drive

Alexandria, LA 71301

Medicare Provider #190019

Eastern Main Medical Center

489 State Street

P.O. Box 404

Bangor, ME 04402-0404

Medicare Provider #200033

Good Samaritan Hospital

375 Dixmyth Avenue

Cincinnati, OH 45220-2489

Medicare Provider #360134

Iowa Methodist Medical Center

1200 Pleasant Street

Des Moines, IA 50309

Medicare Provider #160082

Lutheran Hospital of Indiana

7950 West Jefferson Boulevard

Fort Wayne, IN 46804

Medicare Provider #150017

Moses H. Cone Memorial Hospital

1200 N. Elm Street

Greensboro, NC 27401

Medicare Provider #340091

Robert Packer Hospital

One Guthrie Square

Sayre, PA 18840-1698

Medicare Provider #390079

Spectrum Health Hospital

100 Michigan Street NE.

Grand Rapids, MI 49503

Medicare Provider #230038

St. Luke's Medical Center

2900 W. Oklahoma Avenue

P.O. Box 2901

Milwaukee, WI 53201-2901

Medicare Provider #520138

April 19, 2005

Harper-Hutzel Hospital

3990 John R Street

Detroit, MI 48201

Medicare Provider #230104

North Florida Regional Medical Center

6500 Newberry Road

Gainesville, FL 32605

Medicare Provider #100204

Sinai-Grace Hospital

6071 W. Outer Drive

Detroit, MI 48235

Medicare Provider #230024

Sioux Valley Hospital USD Medical Center

1305 W. 18th Street

Sioux Falls, SD 57117-5039

Medicare Provider #430027

St. Anthony's Hospital

1200 7th Avenue North

St. Petersburg, FL 33705

Medicare Provider #100067

St. John's Regional Medical Center

2727 McClelland Boulevard

Joplin, MO 64804-1694

Medicare Provider #260001

St. Luke's

915 East First Street

Duluth, MN 55805

Medicare Provider #240047

St. Thomas Hospital

4220 Harding Road

Nashville, TN 37205

Medicare Provider #440082

Strong Memorial Hospital

601 Elmwood Avenue,

Box 679

Rochester, NY 14642

Medicare Provider #330285

UC Davis Cardiac Cath Lab/UC Davis Medical Center

2315 Stockton Blvd

Sacramento, CA 95817

Medicare Provider #050599

April 20, 2005

Baptist Medical Center South

2105 East South Boulevard

P.O. Box 11010

Montgomery, AL 36111-0010

Medicare Provider #010023

Forsyth Medical Center

3333 Silas Creek Parkway

Winston Salem, NC 27103

Medicare Provider #340014

Harris Methodist Fort Worth Hospital

1301 Pennsylvania Avenue

Fort Worth, TX 76104

Medicare Provider #450135

Jupiter Medical Center

1210 S. Old Dixie Hwy

Jupiter, FL 33458

Medicare Provider #100253

Kent Hospital

455 Toll Gate Road

Warwick, RI 02886

Medicare Provider #410009

Lawnwood Medical Center, Inc.

d/b/a Lawnwood Regional Medical Center and Heart Institute

1700 South 23rd Street

Fort Pierce, FL 34950

Medicare Provider #100246

LDS Hospital

8th Avenue and C Street

Salt Lake City, UT 84143

Medicare Provider #460010

Riverside Methodist Hospital

3535 Olentangy River Road

Columbus, OH 43214

Medicare Provider #360006

Rush University Medical Center

1725 West Harrison Street

Suite 364

Chicago, IL 60612-3824

Shady Grove Adventist Hospital

9901 Medical Center Drive

Rockville, MD 20850

Medicare Provider #210057

St. Mary's Hospital and Medical Center

2635 North Seventh Street

P.O. Box 1628

Grand Junction, CO 81501

Medicare Provider #060023

Terrebonne General Medical Center

8166 Main Street

Houma, LA 70360

Medicare Provider #190008

The Valley Hospital

223 N. Van Dien Avenue

Ridgewood, NJ 07450-2736

Medicare Provider #310012

April 26, 2005

Baptist Montclair Medical Center

800 Montclair Road

Birmingham, AL 35213

Medicare Provider #010104

Caritas St. Elizabeth's Medical Center

736 Cambridge Street

Boston, MA 02135-2997

Medicare Provider #220036

Fresno Heart Hospital

15 E. Audubon Drive

Fresno, CA 93720

Medicare Provider #050732

Fountain Valley Regional Hospital and Medical Center

17100 Euclid Street

P.O. Box 8010

Fountain Valley, CA 92708

Medicare Provider #050570

Mountain View Regional Medical Center

4311 E. Lohman Avenue

Las Cruces, NM 88011

Medicare Provider #320085

Northwestern Memorial Hospital

251 East Huron Street

Chicago, IL 60611

Medicare Provider #140281

SSM St. Joseph Health Center

300 First Capitol Drive

St. Charles, MO 63301

Medicare Provider #260005

St. Elizabeth Medical Center

South Unit

1 Medical Village Drive

Edgewood, KY 41017

Medicare Provider #180035

Wyoming Valley Health Care System

575 North River Street

Wilkes Barre, PA 18764

Medicare Provider #390137

April 27, 2005

Baptist Hospital-Pensacola

1000 West Moreno Street

P.O. Box 17500

Pensacola, FL 32522-7500

Medicare Provider #100093

Central Baptist Hospital

1740 Nicholasville Road

Lexington, KY 40503

Medicare Provider #180103

Charleston Area Medical Center

3200 MacCorkle Avenue, SE.

Charleston, WV 25304

Medicare Provider #510022

Dartmouth Hitchcock Medical Center

One Medical Center Drive

Lebanon, NH 03756

Medicare Provider #300003

Doylestown Hospital

595 West State Street

Doylestown, PA 18901

Medicare Provider #390203

Good Samaritan Hospital

255 Lafayette Avenue

Suffern, NY 10901

Medicare Provider #330158

Hackensack University Medical Center

30 Prospect Avenue

Hackensack, NJ 07601

Medicare Provider #310001

Medical College of Ohio

3000 Arlington Avenue

Toledo, OH 43614

Medicare Provider #360048

Memorial Hospital Jacksonville

3625 University Boulevard, South

Jacksonville, FL 32216

Medicare Provider #100179

[The] Ortenzio Heart Center at Holy Spirit

503 North 21st Street

Camp Hill, PA 17011-2288

Medicare Provider #390004

OSF Saint Francis Medical Center

530 N.E. Glen Oak Avenue

Peoria, IL 61637

Medicare Provider #140067

Saint Luke's Hospital of Kansas City

4401 Wornall Road

Kansas City, MO 64111

Medicare Provider #360138

Saints Memorial Medical Center

1 Hospital Drive

Lowell, MA 01852-1389

Medicare Provider #220082

St. John Hospital and Medical Center

22151 Moross Road

Detroit, MI 48236

Medicare Provider #230165

Union Hospital

1606 North Seventh Street

Terre Haute, IN 47804-2780

Medicare Provider #150023

University Health System

4502 Medical Drive

San Antonio, TX 78229

Medicare Provider #450213

Washoe Medical Center

75 Pringle Way

Reno, NV 89502

Medicare Provider #290001

Willis Knighton Bossier

2400 Hospital Drive,

Bossier City, LA 71111

Medicare Provider #190236

Willis Knighton Medical Center

2600 Greenwood Road

Shreveport, LA 71103

Medicare Provider #190111

May 3, 2005

Advocate Christ Medical Center

4440 West 95th Street

Oak Lawn, IL 60453

Medicare Provider #140208

Aurora Sinai Medical Center

945 N. 12th Street

Milwaukee, WI 53201

Medicare Provider #520064

Cascade Healthcare Community

d/b/a St. Charles Medical Center Bend

2500 N.E. Neff Road

Bend, OR 97701

Medicare Provider #380040

CJW Medical Center

Chippenham Hospital

7101 Jahnke Road

Richmond, VA 23225

Medicare Provider #490112

Kaleida Health

Millard Fillmore Hospital

3 Gates Circle

Buffalo, NY 14209

Medicare Provider #330005

Lakeview Regional Medical Center

95 E. Fairway Drive

Covington, LA 70433

Medicare Provider #190177

Massachusetts General Hospital

55 Fruit Street

Boston, MA 02114

Medicare Provider #220071

Methodist Medical Center of Oak Ridge

990 Oak Ridge Turnpike

Oak Ridge, TN 37830

Medicare Provider #440034

North Oakland Medical Centers

461 W. Huron Street

Pontiac, MI 48341-1651

Medicare Provider #230013

Norton Healthcare

P.O. Box 35070

Louisville, KY 40232-5070

Medicare Provider #180088

Our Lady of Lourdes Regional Medical Center

611 St. Landry Street

Lafayette, LA 70506

Medicare Provider #190102

St. John West Shore Hospital

29000 Center Ridge Road

Westlake, OH 44145

Medicare Provider #360123

Swedish American Hospital

1401 East State Street

Rockford, IL 61104

Medicare Provider #140228

UPMC Presbyterian Shadyside

200 Lothrop Street

Pittsburgh, PA 15213

Medicare Provider #390164

May 5, 2005

Advocate Lutheran General Hospital

1775 Dempster Street

Park Ridge, IL 60068

Medicare Provider #140223

Avera Heart Hospital of South Dakota

4500 West 69th Street

Sioux Falls, SD 57108

Medicare Provider #430095

Baptist Medical Center

1225 North State Street

Jackson, MS 39202

Medicare Provider #250102

Baptist Memorial Hospital-DeSoto

7601 Southcrest Parkway

Southaven, MS 38671

Medicare Provider #250141

Barnes-Jewish Hospital

One Barnes-Jewish Hospital Plaza

St. Louis, MO 63110

Medicare Provider #260032

Bethesda Hospital

10500 Montgomery Road

Cincinnati, OH 45242-9508

Medicare Provider #360179

Eliza Coffee Memorial Hospital

P.O. Box 818

Florence, AL 35631

Medicare Provider #010006

Geisinger Medical Center

100 North Academy Avenue

Danville, PA 17822

Medicare Provider #390006

Geisinger Wyoming Valley Medical Center

1000 East Mountain Boulevard

Wilkes-Barre, PA 18711

Medicare Provider #390270

Grandview Hospital and Medical Center

405 Grand Avenue

Dayton, OH 45405

Medicare Provider #360133

Hamot Medical Center

201 State Street

Erie, PA 16550

Medicare Provider #390063

Hialeah Hospital

651 East 25th Street

Hialeah, FL 33013

Medicare Provider #100053

Huntington Hospital

100 W. California Boulevard

P.O. Box 7013

Pasadena, CA 91109-7013

Medicare Provider #050438

Kettering Medical Center

3535 Southern Blvd

Kettering, OH 45429

Medicare Provider #360079

Loyola University Medical Center

2160 South First Avenue

Maywood, IL 60153

Medicare Provider #140276

Mercy Hospital

500 E. Market Street

Iowa City, IA 52245

Medicare Provider #160029

Mercy Hospital and Medical Center

2525 South Michigan Avenue

Chicago, IL 60616

Medicare Provider #140158

New York Presbyterian Hospital

161 Ft. Washington Avenue

HIP1412

New York, NY 10032

Medicare Provider #330101

Ohio State University

University Medical Center

452 West 10th Avenue

Columbus, OH 43210

Medicare Provider #360085

Our Lady of Lourdes Medical Center

1600 Haddon Avenue

Camden, NJ 08103

Medicare Provider #310029

Parkwest Medical Center

9352 Park West Boulevard

Knoxville, TN 37923

Medicare Provider #440173

Parma Community General Hospital

7007 Powers Boulevard

Parma, OH 44129-5495

Medicare Provider #360041

Rogue Valley Medical Center

2825 East Barnett Road

Medford, OR 97504

Medicare Provider #380018

Sacred Heart Health System

5151 N. Ninth Avenue

P.O. Box 2700

Pensacola, FL 32513

Medicare Provider #100025

Saint Raphael Healthcare System

1450 Chapel Street

New Haven, CT 06511

Medicare Provider #070001

Seton Medical Center

1900 Sullivan Avenue

Daly City, CA 94015

Medicare Provider #050289

Southern Baptist Hospital of Florida, Inc.

d/b/a Baptist Medical Center

800 Prudential Drive

Jacksonville, FL 32207

Medicare Provider #100088

St. Bernardine Medical Center

2101 N. Waterman Avenue

San Bernardino, CA 92404-4836

Medicare Provider #050129

St. David's Medical Center

919 East 32nd Street

P.O. Box 4039

Austin, TX 78765-4039

Medicare Provider #450431

Town and Country Hospital

6001 Webb Road

Tampa, FL 33615-3241

Medicare Provider #100255

University of Louisville Hospital

530 South Jackson Street

Louisville, KY 40202

Medicare Provider #180141

Vassar Brother Medical Center

45 Reade Place

Poughkeepsie, NY 12601

Medicare Provider #330023

Western Baptist Hospital

2501 Kentucky Avenue

Paduach, KY 42003-3200

Medicare Provider #180104

The Wisconsin Heart Hospital, LLC

10000 West Blue Mound Road

Wauwatosa, WI 53226

Medicare Provider #520199

May 10, 2005

Aiken Regional Medical Centers

302 University Parkway

P.O. Drawer 1117

Aiken, SC 29802-1117

Medicare Provider #420082

Aspirus Wausau Hospital, Inc.

333 Pine Ridge Boulevard

Wausau, WI 54401

Medicare Provider #520030

Deaconess Medical Center

P.O. Box 248

Spokane, WA 99210-0248

Medicare Provider #500044

El Camino Hospital

2500 Grant Road

P.O. Box 7025

Mountain View, Ca 94039-7025

Exempla St. Joseph Hospital

1835 Franklin Street

Denver, CO 80218-1191

Medicare Provider #060009

Hahnemann University Hospital/Tenet

230 N. Broad Street, Mailstop 119

Philadelphia, PA 19102-1192

Medicare Provider #390290

Irvine Regional Hospital & Medical Center

16200 Sand Canyon Avenue

Irvine, CA 92618

Medicare Provider #050693

John Muir Medical Center

1601 Ygnacio Valley Road

Walnut Creek, CA 94598-3194

Medicare Provider #050180

Mid Michigan Medical Center-Midland

4005 Orchard Drive

Midland, MI 48670

Medicare Provider #230222

Mount Diablo Medical Center

2540 East Street

P.O. Box 4110

Concord, CA 94524-4110

Medicare Provider #050496

Palomar Medical Center

555 East Valley Parkway

Escondido, CA 92025

Medicare Provider #050115

Pomerado Hospital

15615 Pomerado Road

Poway, CA 92064

Medicare Provider #050636

Presbyterian Hospital of Dallas

8200 Walnut Hill Lane

Dallas, TX 75231-4496

Medicare Provider #450462

St. John's Hospital

800 East Carpenter Street

Springfield, IL 62769

Medicare Provider #140053

St. Joseph Regional Medical Center

5000 West Chambers Street

Milwaukee, WI 53210-1688

Medicare Provider #520136

St. Luke's Hospital

1026 A Avenue NE.

P.O. Box 3026

Cedar Rapids, IA 52406-3026

Medicare Provider #160045

Wentworth-Douglass Hospital

789 Central Avenue

Dover, NH 03820

Medicare Provider #300018

William Beaumont Hospital

3601 W. 13 Mile Road

Royal Oak, MI 48073

Medicare Provider #230130

May 11, 2005

Allegheny General Hospital

320 East North Avenue

Pittsburg, PA 15212-4772

Medicare Provider #390050

Central Georgia Health Systems

d/b/a The Medical Center of Central Georgia

777 Hemlock Street

Macon, GA 31208

Medicare Provider #110107

Charlotte Regional Medical Center

809 East Marion Avenue

Punta Gorda, FL 33950

Medicare Provider #100047

Fort Sanders Regional Medical Center

1901 W. Clinch Avenue

Knoxville, TN 37916-2398

Medicare Provider #440125

Greater Baltimore Medical Center

6701 N. Charles Street

Baltimore, MD 21204

Medicare Provider #210044

Northeast Methodist Hospital

12412 Judson Road

Live Oak, TX 78233

Medicare Provider #450388

Parkview Hospital

2200 Randallia Drive

Fort Wayne, IN 46805

Medicare Provider #150021

Provena Saint Joseph Hospital

77 North Airlite Street

Elgin, IL 60123-4912

Medicare Provider #140217

St. Francis Hospital and Health Center

12935 S. Gregory Street

Blue Island, IL 60406

Medicare Provider #140118

May 16, 2005

Akron General Medical Center

400 Wabash Avenue

Akron, OH 44266

Medicare Provider #360027

Albany Medical Center Hospital

43 New Scotland Avenue

Albany, NY 12208

Medicare Provider #330013

Baystate Medical Center

759 Chestnut Street

Springfield, MA 01199

Medicare Provider #220077

Brigham and Women's Hospital

75 Francis Street

Boston, MA 02115

Medicare Provider #220110

Emory Crawford Long Hospital

550 Peachtree Street, N.E.

Atlanta, GA 30308-2225

Medicare Provider #110078

Galichia Heart Hospital

2610 N. Woodlawn

Wichita, KS 67220-2729

Medicare Provider #170192

Harris Methodist HEB

1600 Hospital Parkway

Bedford, TX 76022

Medicare Provider #450639

Hennepin County Medical Center

701 Park Avenue

Minneapolis, MN 55415-1829

Medicare Provider #240004

High Point Regional Health System

601 North Elm Street

P.O. Box HP-5

High Point, NC 27261

Medicare Provider #340004

Hillcrest Hospital

6780 Mayfield Road

Mayfield Heights, OH 44124

Medicare Provider #360230

Lenox Hill Hospital

100 East 77 Street

New York, NY 10021

Medicare Provider #330119

Los Robles Hospital and Medical Center

215 West Janss Road

Thousand Oaks, CA 91360

Medicare Provider #050549

Medical Center of Plano

3901 West 15th Street

Plano, TX 75075

Medicare Provider #450651

Memorial Medical Center

2700 Napoleon Avenue

New Orleans, LA 70115

Medicare Provider #190135

Morton Plant Hospital

300 Pinellas Street

Clearwater, FL 33756

Medicare Provider #100127

Phoenix Memorial Hospital

Cardiac Catheterization Laboratory/Interventional Radiology Suite

1201 South 7th Avenue

Phoenix, AZ 85007

Medicare Provider #030106

Providence Portland Medical Center

4805 Northeast Glisan Street

Portland, OR 97213-2967

Medicare Provider #380061

Providence St. Vincent Medical Center

9205 S.W. Barnes Road

Portland, OR 97225

Medicare Provider #380004

Saint Joseph Health Center

1000 Carondelet Drive

Kansas City, MO 64114

Medicare Provider #260085

Shawnee Mission Medical Center

9100 W. 74th Street

Shawnee Mission, KS 66204

Medicare Provider #170104

Sierra Medical Center

1625 Medical Center Drive

El Paso, TX 79902

Medicare Provider #450668

St. Joseph Mercy Hospital

5301 E. Huron River Drive

P.O. Box 995

Ann Arbor, MI 48106

Medicare Provider #230156

St. Mary's Medical Center

407 East Third Street

Duluth, MN 55805

Medicare Provider #240002

Swedish Medical Center

501 East Hampden Ave

Engelwood, CO 80113

Medicare Provider #060034

Tallahassee Memorial

1300 Miccosukee Road

Tallahassee, FL 32308

Medicare Provider #100135

United Regional Health Care System

Eleventh Street Campus

1600 Eleventh Street

Wichita Falls, TX 76301

Medicare Provider #450010

University of Kentucky Hospital

800 Rose Street

Lexington, KY 40536-0293

Medicare Provider #180067

Washington Hospital Center

110 Irving Street, NW.

Washington, DC 20010

Medicare Provider #090011

Wellmont Holston Valley Medical Center

Holston Valley Vascular Institute

130 W. Ravine Road

Kingsport, TN 37660

Medicare Provider #440017

Westchester Medical Center

95 Grasslands Road

Valhalla, NY 10595

Medicare Provider #330234

Winchester Medical Center

P.O. Box 3340

Winchester, VA 22604-2540

Medicare Provider #490005

May 17, 2005

Lee's Summit Hospital

530 N.W. Murray Road

Lee's Summit, MO 64081

Medicare Provider #260190

Mercy Hospital Fairfield

3000 Mack Road

Fairfield, OH 45014

Medicare Provider #360056

Saint Louis University Hospital

3635 Vista at Grand Boulevard

P.O. Box 15250

St. Louis, MO 63110

Medicare Provider #260105

Samaritan Hospital

310 South Limestone Street

Lexington, KY 40508

Medicare Provider #180007

St. Joseph Medical Center

Heart Institute

7601 Osler Drive

Towson, MD 21204-7582

Medicare Provider #210007

St. Joseph's Medical Center

1800 N. California Street

Stockton, CA 95204

Medicare Provider #050084

St. Mary's Medical Center

3700 Washington Avenue

Evansville, IN 47740-001

Medicare Provider #150100

Swedish Medical Center

First Hill Campus

747 Broadway

Seattle, WA 98122

Medicare Provider #500027

May 23, 2005

Bakersfield Memorial Hospital

420 34th Street

Bakersfield, CA 93301

Medicare Provider #050036

Banner Good Samaritan Medical Center

1111 E. McDowell Road

Phoenix, AZ 85006

Medicare Provider #030002

Bay Medical Center

615 North Bonita Avenue

Panama City, FL 32401

Medicare Provider #100026

Christiana Care Health Services

4755 Ogletown-Stanton Road

P.O. Box 6001

Newark, DE 19718-6001

Medicare Provider #080001

Clarian Health Partners, Inc.

I-65 at 21st Street

P.O. Box 1367

Indianapolis, IN 46206-1367

Medicare Provider #150056

Community Health Partners

3700 Kolbe Road

Lorain, OH 44052-1697

Medicare Provider #360172

EMH Regional Medical Center

630 East River Street

Elyria, OH 44035

Medicare Provider #360145

Erlanger Health System

975 East Third Street

Chattanooga, TN 37403

Medicare Provider #440104

Hartford Hospital

80 Seymour Street

P.O. Box 5037

Hartford, CT 06102-5037

Medicare Provider #070025

Hays Medical Center

2220 Canterbury Road

Hays, KS 67601

Medicare Provider #170013

Hospital of the University of Pennsylvania

3400 Spruce Street

Philadelphia, PA 19104

Medicare Provider #390111

Kansas Heart Hospital

3601 N. Webb Road

Wichita, KS 67226

Medicare Provider #170186

King's Daughters Medical Center

2201 Lexington Avenue

Ashland, KY 41101

Medicare Provider #180009

Los Alamitos Medical Center

3751 Katella Avenue

Los Alamitos, CA 90720

Medicare Provider #050551

Maricopa Integrated Health System

Maricopa Medical Center

Cardiac Catheterization Laboratory

2601 E. Roosevelt

Phoenix, AZ 85008

Medicare Provider #030022

Mayo Clinic Hospital

5777 East Mayo Boulevard

Phoenix, AZ 85054

Medicare Provider #030103

Missouri Baptist Medical Center

3015 N. Ballas Road

St. Louis, MO 63131

Medicare Provider #260108

Munroe Regional Medical Center

1500 S.W. 1st Avenue

Ocala, FL 34474

Medicare Provider #100062

Norman Regional Hospital

901 North Porter, Box 1308

Norman, OK 73070-1308

Medicare Provider #370008

Oklahoma Heart Hospital

4050 West Memorial Road

Oklahoma City, OK 73120

Medicare Provider #370215

Orlando Regional Healthcare System, Inc.

1414 Kuhl Avenue

Orlando, FL 32806

Medicare Provider #100006

Pinnacle Health Hospitals

111 South Front Street

Harrisburg, PA 17101

Medicare Provider #390067

Plaza Medical Center of Fort Worth

900 Eighth Avenue

Fort Worth, TX 76104

Medicare Provider #450672

Rapides Regional Medical Center

Box 30101

211 Fourth Street

Alexandria, LA 71301-8454

Medicare Provider #190026

Research Medical Center

2316 East Meyer Boulevard

Kansas City, MO 64132

Medicare Provider #260027

St. Luke's-Roosevelt Hospital Center

1000 Tenth Avenue

New York, NY 10019

Medicare Provider #330046

Swedish Medical Center

Providence Campus

747 Broadway

Seattle, WA 98122

Medicare Provider #500025

May 25, 2005

Bakersfield Heart Hospital

3001 Sillect Avenue

Bakersfield, CA 93308

Medicare Provider #050724

College Station Medical Center

1604 Rock Prairie Road

College Station, TX 77845

Medicare Provider #450299

Good Samaritan Hospital

2222 Philadelphia Drive

Dayton, OH 45406-1891

Medicare Provider #360052

Lakeland Regional Medical Center

1324 Lakeland Hills Boulevard

Lakeland, FL 33805

Medicare Provider #100157

Mercy Medical Center

301 St. Paul Place

Baltimore, MD 21202

Medicare Provider #210008

Mount Carmel St. Ann's Hospital

500 South Cleveland Avenue

Westerville, OH 43081-8998

Medicare Provider #360012

Western Medical Center-Santa Ana

1001 North Tustin Avenue

Santa Ana, CA 92705

Medicare Provider #050746

May 26, 2005

Benefits Healthcare

1101 26th Street South

Great Falls, MT 59405

Medicare Provider #270012

Blanchard Valley Regional Health Center

145 West Wallace Street

Findlay, OH 45840

Medicare Provider #360095

Central Dupage Hospital

25 North Winfield Road

Winfield, IL 60190

Medicare Provider #140242

[The] Christ Hospital

2139 Auburn Avenue

Cincinnati, OH 45219

Medicare Provider #360163

Fletcher Allen Health Care

Medical Center Campus

111 Colchester Avenue

Burlington, VT 05401-1473

Medical University of South Carolina Hospital Authority

169 Ashley Avenue

P.O. Box 250347

Charleston, SC 29425

Medicare Provider #420004

[The] Mount Sinai Hospital

1 Gustave L. Levy Place

New York, NY 10029

Medicare Provider #330024

North Memorial Health Care

3300 Oakdale Avenue North

Robbinsdale, MN 55422

Medicare Provider #240001

Our Lady of Bellefonte Hospital

St. Christopher Drive

Ashland, KY 41101

Medicare Provider #180036

Rapid City Regional Hospital

353 Fairmont Boulevard

Rapid City, SD 57701

Medicare Provider #430077

Sacred Heart Medical Center

Oregon Heart & Vascular Institute

1255 Hilyard Street

P.O. Box 10905

Eugene, OR 97440

Medicare Provider #380033

Shands Jacksonville Medical Center

655 West Eighth Street

Jacksonville, FL 32209

Medicare Provider #100001

Southern Maryland Hospital Center

7503 Surratts Road

Clinton, MD 20735

Medicare Provider #520054

Southwest Washington Medical Center

P.O. Box 1600

Vancouver, WA 98668

Medicare Provider #500050

St. Joseph's Mercy Health Center

300 Werner Street

Hot Springs, AR 71903

Medicare Provider #040026

Texan Heart Hospital

6700 IH-10 West

San Antonia, TX 78201

Medicare Provider #450878

University of Alabama Hospital

619 South 19th Street

Birmingham, AL 35233

Medicare Provider #010033

University Health System

1520 Cherokee Trail, Suite 200

Knoxville, TN 37920-2205

Medicare Provider #440015

Utah Valley Regional Medical Center

1034 North 500 West

Provo, UT 84605

Medicare Provider #460001

West Allis Memorial Hospital

8901 West Lincoln Avenue

West Allis, WI 53227

Medicare Provider #520139

June 1, 2005

Community Hospital

901 MacArthur Boulevard

Munster, IN 46321

Medicare Provider #150125

Freeman Health System

1102 West 32nd Street

Joplin, MO 64804

Medicare Provider #260137

Harlingen Medical Center

5501 South Expressway 77

Harlingen, TX 78550

Medicare Provider #450855

Mission Hospital Regional Medical Center

27700 Medical Center Road

Mission Viejo, CA 92691

Medicare Provider #050567

Piedmont Hospital

1968 Peachtree Road, NW.

Atlanta, GA 30309

Medicare Provider #110083

Portsmouth Regional Hospital

333 Borthwick Avenue

P.O. Box 7004

Portsmouth, NH 03802-7004

Medicare Provider #300029

Provena St. Mary's Hospital

500 West Court Street

Kankakee, IL 60901

Medicare Provider #140155

Saint Michael's Medical Center

268 Martin Luther King Jr. Boulevard

Newark, NJ 07012

Medicare Provider #310096

St. Anthony's Medical Center

10010 Kennerly Road

St. Louis, MO 63128

Medicare Provider #260077

St. Francis Hospital

100 Port Washington Boulevard

Roslyn, NY 11576-1348

Medicare Provider #330182

St. Joseph Mercy Oakland

44405 Woodward Avenue

Pontiac, MI 48341-5023

Medicare Provider #230029

St. Mary Medical Center

1201 Langhorne-Newtown Road

Langhorn, PA 19047

Medicare Provider #390258

University Medical Center

1501 N. Campbell Avenue

Tucson, AZ 85724

Medicare Provider #030064

June 2, 2005

Community Hospital

5637 Marine Parkway

P.O. Box 996

New Port Richey, FL 34656

Medicare Provider #100191

Cox Medical Center South

3801 S. National Avenue

Springfield, MO 65807

Medicare Provider #260040

Mary Washington Hospital

1001 Sam Perry Boulevard

Fredericksburg, VA 22401

Medicare Provider #490022

Memorial Health University Medical Center

4700 Waters Avenue

Savannah, GA 31404

Medicare Provider #110036

North Ridge Medical Center

5757 North Dixie Highway

Ft. Lauderdale, FL 33334

Medicare Provider #100237

Oregon Health and Science University

Oregon Stroke Center

3181 SW. Sam Jackson Park Road

CR-131

Portland, OR 97239

Medicare Provider #380009

Riverside Medical Center

350 North Wall Street

Kankakee, IL 60901

Medicare Provider #140186

Sunrise Hospital and Medical Center

Sunrise Children's Hospital

3186 South Maryland Parkway

Las Vegas, NV 89109

Medicare Provider #290003

June 7, 2005

Brackenridge Hospital

601 East 15th Street

Austin, TX 78701-1096

Medicare Provider #450124

Doctors Hospital at Renaissance

5501 S. McColl Road

Edinburg, TX 78539

Medicare Provider #450869

Florida Hospital

601 East Rollins Street

Orlando, FL 32803

Medicare Provider #100007

Gadsden Regional Medical Center

1007 Goodyear Avenue

Gadsden, AL 35903

Medicare Provider #010040

Huntsville Hospital

101 Sivley Road

Huntsville, AL 35801

Medicare Provider #010039

Memorial Medical Center

701 North First Street

Springfield, IL 62781

Medicare Provider #140148

Ohio Valley Medical Center

2000 Eoff Street

Wheeling, WV 26003

Medicare Provider #510039

Providence Alaska Medical Center

3200 Providence Drive

P.O. Box 196604

Anchorage, AK 99519-6604

Medicare Provider #020001

San Ramon Regional Medical Center

6001 Norris Canyon Road

San Ramon, CA 94583

Medicare Provider #050689

St. Bernards Medical Center

225 E. Jackson Avenue

Jonesboro, AR 72401

Medicare Provider #040020

St. Vincent Healthcare

1233 North 30th Street

Billings, MT 59101

Medicare Provider #270049

June 8, 2005

Brotman Medical Center

3828 Delmas Terrace

Culver City, CA 90231-2459

Medicare Provider #050144

Comanche County Memorial Hospital

P.O. Box 129

3401 West Gore Boulevard

Lawton, OK 73502

Medicare Provider #370056

Covenant Health System

3615 19th Street

Lubbock, TX 79410

Medicare Provider #450040

Iberia Medical Center

2315 East Main Street

P.O. Box 13338

New Iberia, LA 70562-3338

Medicare Provider #190054

Lehigh Valley Hospital and Health Network

Cedar Crest Campus

Cedar Crest & I-78

P.O. Box 689

Allentown, PA 18105

Medicare Provider #390133

Midwest Regional Medical Center

2825 Parklawn Drive

Midwest City, OK 73110

Medicare Provider #370094

Mount Carmel Health

(Mount Carmen East and Mount Carmen West)

793 West State Street

Columbus, OH 43222

Medicare Provider #360035

Northwest Texas Healthcare System

1501 South Coulter Drive

Amarillo, TX 79106-1770

Medicare Provider #450209

Saint Joseph's Hospital

611 St. Joseph Avenue

Marshfield, WI 54449-1898

Medicare Provider #520037

Saint Joseph's Hospital of Atlanta

5665 Peachtree

Dunwoody Road N.E.

Atlanta, GA 30342-1764

Medicare Provider #110082

St. Francis Hospital and Medical Center

114 Woodland Street

Hartford, CT 06105

Medicare Provider #070002

Thomas Jefferson University Hospital

111 South 11th Street

Philadelphia, PA 19107

Medicare Provider #390174

Unity Health System

Park Ridge Hospital

1555 Long Pond Road

Rochester, NY 14626

Medicare Provider #330226

York Hospital/Wellspan Health

1001 South George Street

P.O. Box 15198

York, PA 17405-7198

Medicare Provider #390046

June 14, 2005

Abbott Northwestern Hospital

800 East 28th Street

Minneapolis, MN 55407

Medicare Provider #240057

Appleton Medical Center

1818 North Meade Street

Appleton, WI 54911

Medicare Provider #520160

Brookwood Medical Center

2010 Brookwood Medical Center Drive

Birmingham, AL 35209

Medicare Provider #010139

Community Memorial Hospital

W 180 N8085 Town Hall Road

Menomonee Falls, WI 53051

Medicare Provider #520103

Crestwood Medical Center

One Hospital Drive S.E.

Huntsville, AL 35801

Medicare Provider #010131

Lankenau Hospital

100 Lancaster Avenue

Wynnewood, PA 19096

Medicare Provider #390195

Mission Hospitals, Inc.

509 Biltmore Avenue

Asheville, NC 28801

Medicare Provider #340002

North Shore University Hospital

300 Community Drive

Manhasset, NY 11030

Medicare Provider #330105

Palmetto General Hospital

2001 West 68th Street

Hialeah, FL 33016

Medicare Provider #100187

Rockford Memorial Hospital

2400 North Rockton Avenue

Rockford, IL 61103

Medicare Provider #140239

Saint Francis Hospital

6161 South Yale Avenue

Tulsa, OK 74136

Medicare Provider #370091

Sequoia Hospital

170 Alameda de las Pulgas

Redwood City, CA 94062

Medicare Provider #050197

Seton Medical Center

1201 West 38th Street

Austin, TX 78705-1056

Medicare Provider #450056

St. Alexius Medical Center

900 E. Broadway

P.O. Box 5510

Bismark, ND 58506-5510

Medicare Provider #350002

St. John's Regional Health Center

1235 East Cherokee Street

Springfield, MO 65804-2263

Medicare Provider #260065

Tenet Health System

d/b/a Piedmont Medical Center

222 South Herlong Avenue

Rock Hill, SC 29732

Medicare Provider #420002

Theda Clark Medical Center

130 2nd Street

P.O. Box 2021

Neenah, WI 54947-2021

Medicare Provider #520045

Trinity Medical Center

West Campus

2701 17th Street

Rock Island, IL 61201

Medicare Provider #140280

University of Connecticut Health Center

John Dempsey Hospital

263 Farmington Avenue

Farmington, CT 06030

Medicare Provider #070036

Washington Adventist Hospital

7600 Carroll Avenue

Takoma Park, MD 29859

Medicare Provider #210016

June 20, 2005

Augusta Medical Center

78 Medical Center Drive

Fisherville, VA 22939

Medicare Provider #490018

Deaconess Hospital Inc.

600 Mary Street

Evansville, IN 47747

Medicare Provider #150082

Froedtert Memorial Lutheran Hospital

9200 West Wisconsin Avenue

Milwaukee, WI 53226

Medicare Provider #520177

Greenville Memorial Hospital

701 Grove Road

Greenville, SC 29605

Medicare Provider #420078

Heart Hospital of New Mexico

504 Elm Street NE.

Albuquerque, NM 87102

North Arundel Hospital

301 Hospital Drive

Glen Burnie, MD 21061

Medicare Provider #210043

Overlake Hospital Medical Center

1035 116th Avenue NE.

Bellevue, WA 98004

Medicare Provider #050051

Penn State Milton S. Hershey Medical Center

500 University Drive

Hershey, PA 17033

Medicare Provider #390256

Pomona Valley Hospital Medical Center

1798 North Garey Avenue

Pomona, CA 91767

Medicare Provider #050231

Providence St. Peter Hospital

413 Lilly Road Northeast

Olympia, WA 98506-5166

Medicare Provider #500024

Regional Medical Center Bayonet Point

14000 Fivay Road

Hudson, FL 34667

Medicare Provider #100256

Saint Francis Hospital

5959 Park Avenue

Memphis, TN 38199-5198

Medicare Provider #440183

Scripps Memorial Hospital La Jolla

9888 Genesee Avenue

La Jolla, CA 92037

Medicare Provider #050324

Seven Rivers Regional Medical Center

6201 North Suncoast Blvd

Crystal River, FL 34428-6712

Medicare Provider #100249

St. Anthony Hospital

1000 North Lee Street

Oklahoma City, OK 73101

Medicare Provider #370037

St. Joseph's Hospital and Medical Center

350 West Thomas Road

Phoenix, AZ 85013

Medicare Provider #030024

University of Wisconsin Hospitals and Clinics

600 Highland Avenue

Madison, WI 53792

Medicare Provider #520098

June 27, 2005

Atlanta Medical Center

303 Parkway Drive, NE.

Atlanta, GA 30312-1212

Medicare Provider #110115

Bronson Methodist Hospital

601 John Street

Kalamazoo, MI 49007

Medicare Provider #230017

Bryn Mawr Hospital

130 South Bryn Mawr Avenue

Bryn Mawr, PA 19010

Medicare Provider #390139

Cleveland Clinic Hospital

3100 Weston Road

Weston, FL 33331

Medicare Provider #100289

Lake Cumberland Regional Hospital

305 Langdon Street

Somerset, KY 42503

Medicare Provider #180132

Memorial Hospital

1400 East Boulder Street

Colorado Springs, CO 80909

Medicare Provider #060022

Menorah Medical Center

5721 West 119th Street

Overland Park, KS 66209

Medicare Provider #170182

Methodist Medical Center of Illinois

221 Northeast Glen Oak Avenue

Peoria, IL 61636-0002

Medicare Provider #014209

North Carolina Baptist Hospital

Medical Center Blvd

Winston-Salem, NC 27157

Medicare Provider #340047

Osceola Regional Medical Center

700 West Oak Street

P.O. Box 458004

Kissimmee, FL 34745-8004

Medicare Provider #100110

Palm Beach Garden's Medical Center

3360 Burns Road

Palm Beach Gardens, FL 33410

Medicare Provider #100176

Presbyterian Healthcare Services

P.O. Box 26666

Albuquerque, NM 87125-6666

Medicare Provider #320021

Providence Hospital

16001 West Nine Mile Road

Southfield, MI 48075

Medicare Provider #230019

Saint Joseph Medical Center

Creighton University Medical Center

601 North 30th Street

Omaha, NE 68131-2197

Medicare Provider #280030

Shasta Regional Medical Center

1100 Butte Street

Redding, CA 96001

Medicare Provider #050733

South Jersey Healthcare

1505 West Sherman Avenue

Vineland, NJ 08360

Medicare Provider #310032

St. Joseph's Hospital

69 West Exchange Street

St. Paul, MN 55102

Medicare Provider #240063

St. Mary's Hospital

1601 West St. Mary's Road

Tucson, AZ 85745

Medicare Provider #030010

Trident Medical Center

9330 Medical Plaza Drive

Charleston, SC 29406

Medicare Provider #420079

University of Iowa Hospitals and Clinics

Neurointerventional Radiology

Department of Radiology

200 Hawkins Drive

Iowa City, IA 52242

Medicare Provider #160058

Venice Regional Medical Center

540 The Rialto

Venice, FL 34285

Medicare Provider #100070

Virginia Mason Medical Center

1100 Ninth Avenue

P.O. Box 98111

Seattle, WA 98111

Medicare Provider #500005

WellStar Cobb Hospital

805 Sandy Plains Road

Marietta, GA 30060

Medicare Provider #110143

WellStar Kennestone Hospital

805 Sandy Plains Road

Marietta, GA 30060

Medicare Provider #110035

June 29, 2005

Arkansas Heart Hospital

1701 S. Shackleford Road

Little Rock, AR 72211

Medicare Provider #040134

Baptist Healthcare of Oklahoma, Inc.

d/b/a INTEGRIS Bass Baptist Health Center

600 S. Monroe

P.O. Box 3168

Enid, OK 73702

Medicare Provider #370016

Boca Raton Community Hospital

800 Meadows Road

Boca Raton, FL 33486

Medicare Provider #100168

Carolinas Medical Center

1000 Blythe Blvd

Charlotte, NC 28203

Medicare Provider #340113

Decatur Memorial Hospital

2300 North Edward Street

Decatur, IL 62526

Medicare Provider #140135

Doctors Community Hospital

8118 Good Luck Road

Lanham, MD 20706-3586

Medicare Provider #210051

Duke University Medical Center

Department of Radiology

P.O. Box 3808

Durham, NC 27710

Medicare Provider #340030

Heartland Health

5325 Faraon Street

St. Joseph, MO 64506-3398

Medicare Provider #260006

INTEGRIS Baptist Medical Center, Inc.

3300 Northwest Expressway

Oklahoma City, OK 73112

Medicare Provider #370028

Lehigh Valley Hospital

Muhlenberg Campus

2545 Schoenersville Road

Bethlehem, PA 18017

Medicare Provider #390263

McLaren Regional Medical Center

401 South Ballenger Highway

Flint, MI 48532-3685

Medicare Provider #230141

Mountain States Health Alliance

400 North State of Franklin Road

Johnson City, TN 37604-6094

Medicare Provider #440063

New York University Medical Center

550 First Avenue, HCC-15

New York, NY 10016-6481

Medicare Provider #330214

Overlook Hospital

99 Beauvoir Avenue

P.O. Box 220

Summit, NJ 07802-0220

Medicare Provider #310051

Saint Marys Hospital

1216 Second Street S.W.

Rochester, MN 55902

Medicare Provider #240010

Sarasota Memorial Hospital

1700 S. Tamiami Trail

Sarasota, FL 34239

Medicare Provider #100087

Shands Hospital at the University of Florida

P.O. Box 100326

Gainesville, FL 32610-0326

Medicare Provider #100113

Sisters of Charity Hospital

2157 Main Street

Buffalo, NY 14214

Medicare Provider #330078

St. Luke's Hospital

4202 Belfort Road

Jacksonville, FL 32216-5898

Medicare Provider #100151

University Medical Center

602 Indiana Avenue

Lubbock, TX 79415

Medicare Provider #450686

Vanderbilt University Medical Center

D-3300 Medical Center North

Nashville, TN 37232-2104

Medicare Provider #440039

West Virginia University Hospitals, Inc.

Medical Center Drive

P.O. Box 8059

Morgantown, WV 36506

Medicare Provider #510001

[FR Doc. 05-18926 Filed 9-22-05; 8:45 am]

BILLING CODE 4120-01-P